DEPARTMENT OF THE INTERIOR

Fish and Wildlife Service

50 CFR Part 17

RIN 1018-AU46

Endangered and Threatened Wildlife and Plants; Designation of Critical Habitat for the Guajón (Eleutherodactylus cooki)

AGENCY: Fish and Wildlife Service, Interior.

ACTION: Final rule.

SUMMARY: We, the U.S. Fish and Wildlife Service (Service), are designating critical habitat (CH) for the guajón (Eleutherodactylus cooki) under the Endangered Species Act of 1973, as amended (Act). In total, approximately 260.6 acres (ac) (105.6 hectares (ha)) fall within the boundaries of the CH designation. The critical habitat is located within the municipalities of Humacao, Juncos, Las Piedras, Maunabo, Patillas, San Lorenzo, and Yabucoa, Puerto Rico.

DATES: This rule becomes effective on November 23, 2007.

FOR FURTHER INFORMATION CONTACT: Jorge Saliva, Boquerón Field Office, U.S. Fish and Wildlife Service, P.O. Box 491, Boquerón, Puerto Rico 00622 (telephone 787-851-7297, ext. 224 or facsimile 787-851-7440). Persons who use a telecommunications device for the deaf (TDD) may call the Federal Information Relay Service (FIRS) at 800-877-8339.

SUPPLEMENTARY INFORMATION:

Background

It is our intent to discuss only those topics directly relevant to the designation of critical habitat in this rule. For additional information on the guajón, please refer to the proposed rule to designate critical habitat published in the Federal Register on October 5, 2006 (71 FR 58953) and the final listing determination published on June 11, 1997 (62 FR 31757).

Previous Federal Actions

For more information on previous Federal actions concerning the guajón, refer to the proposed rule to designate critical habitat published on October 5, 2006 (71 FR 58953). On June 19, 2007, we announced the availability of our draft economic analysis (DEA), reopened the public comment period on the proposed rule, and proposed five additional units for designation as critical habitat (72 FR 33715). The public comment period ended on July 19, 2007.

Summary of Comments and Recommendations

We requested written comments from the public on the proposed designation of critical habitat for the guajón in the proposed rule published on October 5, 2006 (71 FR 58953) and in our June 19, 2007, notice (72 FR 33715). We also contacted appropriate Federal, Commonwealth, and local agencies; scientific organizations; and other interested parties and invited them to comment on the proposed rule.

During the comment period that opened on October 5, 2006, and closed on December 4, 2006, we received four letters commenting on the proposed critical habitat designation; three from peer reviewers and one from an organization. During the comment period that opened on June 19, 2007, and closed on July 19, 2007, we did not receive any comments directly addressing the initial proposed critical habitat designation, the DEA, or the additional proposed critical habitat units. Comments received from peer reviewers and the organization are addressed in the following summary and incorporated into the final rule as appropriate. We did not receive any requests for a public hearing.

Peer Review

In accordance with our policy published on July 1, 1994 (59 FR 34270), we solicited expert opinions from eight knowledgeable individuals with scientific expertise that included familiarity with the species, the geographic region in which the species occurs, or conservation biology principles, and two formal requests for peer review to the Puerto Rico Department of Natural and Environmental Resources and the U.S. Forest Service. We received responses from three peer reviewers.

We reviewed all comments received from the peer reviewers and the public for substantive issues and new information regarding critical habitat for guajón and addressed them in the following summary.

Peer Reviewer Comments

1. Comment: One peer reviewer questioned why the proposed critical habitat designation did not include some sites that were occupied by the guajón at the time of listing.

Our Response: The proposed rule did not include nine sites where the guajón was reported to be present at the time the species was listed as threatened in 1997 (62 FR 31757). Currently, guajón are not found at these sites and the sites no longer contain the physical and biological features essential to the conservation of the species.

2. Comment: One peer reviewer indicated that the drainages that are proposed for designation as critical habitat may be impacted by erosion and sedimentation from nearby agricultural activities.

Our Response: Consistent with the primary constituent elements (PCEs) we have identified for this species and to afford protection to its foraging habitat, we have included within the critical habitat designation a foraging area of 99 feet (ft) (30 meters (m)) extending laterally from each bank of creeks and drainages. We believe that this vegetated foraging “corridor” will also act as a buffer zone between the edge of the streambeds of the proposed critical habitat units and the potential farming activities.

3. Comment: One peer reviewer stated that the buffer zone should be larger than 99 ft (30 m) (several publications state 164 ft (50 m) as a minimum for amphibians) and that protection should be extended beyond the river basin.

Our Response: Rather than using a general amphibian buffer of 164 ft (50 m), we have included a foraging area along creeks and drainages as a result of the personal observations of Vega-Castillo that the foraging habitat of the guajón, specifically, may extend outside the streambed in vegetated areas as far as 99 ft (30 m) from the water source (Vega-Castillo, pers. obs., 2001).

We have designated habitat sufficient for the conservation of the species. We recognize that this critical habitat designation does not include all of the areas that are occupied by the guajón throughout the species' range. This is consistent with the Act's provision that except in circumstances determined by the Secretary, critical habitat shall not include the entire geographical area which can be occupied by the listed species. However, critical habitat designations do not imply that habitat outside the designation is unimportant.

Comments Related to Habitat

4. Comment: One commenter stated the following concern: The Service asserts that the total habitat occupied by the guajón covers 69,000 acres (ac) (27,923 hectares (ha)), but then claims only 217 ac (88 ha) are necessary for the guajón's conservation. The commenter wanted to know where and how the Service obtained the figure of 69,000 ac (27,923 ha), and what the figure actually means. The commenter also wanted to know how much land the guajón actually occupies according to Service estimates, the best available science, and how much land consists of suitable, unoccupied habitat. The commenter states that the proposed rule did not explain why unoccupied areas or areas for dispersal were omitted from critical habitat designation.

Our Response: We originally estimated the species' range to be 69,000 ac (27,923 ha) based on tributaries or water bodies within the range of the guajón that may be occupied by the species. However, to be included in a critical habitat designation, the habitat within the area occupied by the species at the time of listing must contain features that are essential to the conservation of the species, i.e., the PCEs that are identified in the discussion below. Although 69,000 ac (27,923 ha) constitute the potential range of the species, habitat for the guajón that meets the criterion of containing the PCEs is substantially less. Currently, we do not know how much of this range the guajón occupies or how much of its range is suitable habitat; there have been no comprehensive surveys to determine all areas where the species is found or all areas where suitable habitat occurs. Based on the best scientific information available, we believe we have designated habitat sufficient for the conservation of this species. See also our response to Comment 3.

5. Comment: One commenter stated that it is imperative that all recently occupied sites are included in the critical habitat designation and suggested six sites to be added into the critical habitat designation.

Our Response: Each of the six sites recommended for designation by this commenter was visited by Service staff to verify the presence of the guajón and the PCEs. Of the six sites recommended, four sites contained at least one PCE and guajón were present. These sites were known to have been occupied by guajón prior to listing (Drewry 1986; Moreno 1991; Joglar 1992; Joglar et al. 1996) and were added as proposed critical habitat units (Unit 13, Unit 14, Unit 15, and Unit 17—see Critical Habitat section) in our June 2007 notice. One site was not included because it did not contain any PCEs and the species was not present at that site, and therefore did not satisfy the statutory definition of occupied critical habitat. The remaining site was determined to be the same as the Emajagua Unit which was already included in the proposed rule as Unit 4. Units 13-17 are included in this final designation.

Comment Related to Corridors

6. Comment: One commenter stated that corridors may help reduce or moderate some of the adverse effects of habitat fragmentation by facilitating dispersal of individuals between substantive patches of remaining habitat.

Our Response: The literature suggests that corridors and connectivity between habitat areas are important for movement and dispersal of the species. However, we have no information that this species actually uses corridors, and without information on corridor use and habitat characteristics of corridors we cannot determine that these areas have the features that are essential to the conservation of the species. We believe we have designated habitat sufficient for the conservation of this species. However, this critical habitat designation does not imply that habitat outside the designation is unimportant.

Comment Related to Economics

7. Comment: One commenter indicated that the general statement in the proposed rule that critical habitat has significant costs ignores the economic and social benefits of critical habitat designation; these benefits must be considered in any economic analysis of the critical habitat designation, and should be weighed in any determination to exclude specific areas from the critical habitat designation.

Our Response: The published economics literature has documented that social welfare benefits can result from the conservation and recovery of endangered and threatened species. In its guidance for implementing Executive Order 12866, the Office of Management and Budget (OMB) acknowledges that it may not be feasible to monetize, or even quantify, the benefits of environmental regulations due to either an absence of defensible, relevant studies or a lack of resources on the implementing agency's part to conduct new research. Rather than rely on economic measures, the Service believes that the direct benefits of the proposed rule are best expressed in biological terms that can be weighed against the expected cost impacts of the designation of critical habitat in a section 4(b)(2) exclusion analysis.

General Comments

8. Comment: One commenter stated that, although it does not impact the guajón proposed rule, the Service continues to make the conclusion that even occupied areas are not critical habitat if “existing management [of the area] is sufficient to conserve the species.” If occupied or unoccupied land contains features “essential to the conservation of the species,” then it is critical habitat regardless of any “existing management.”

Our Response: Critical habitat is defined in section 3 of the Act as: (i) The specific areas within the geographical area occupied by a species, at the time it is listed in accordance with the Act, on which are found those physical or biological features (I) essential to the conservation of the species and (II) that may require special management considerations or protection; and (ii) specific areas outside the geographical area occupied by a species at the time it is listed, upon a determination that such areas are essential for the conservation of the species. Therefore, if special management considerations or protection of the PCEs is not needed, the area does not meet the definitional requirements for habitat occupied at the time of listing. Unoccupied habitat must be found to be essential for the conservation of the species. The Act does not apply a special management standard for unoccupied habitat. Unless such unoccupied habitat is determined to be essential for the conservation of the species, those areas do not meet the definition of critical habitat.

9. Comment: One commenter stated that it would make more sense for the Service to promote the designation of critical habitat instead of actively criticizing and avoiding it. The commenter provides information from Taylor et al. (2005), who state that species with critical habitat designated two or more years are less likely to be declining and twice as likely to be recovering that species without it.

Our Response: We agree that the designation of critical habitat can serve positive purposes for the conservation of listed species. However, we also believe it is only one tool for managing and conserving listed species and their habitat. In addition to the designation of critical habitat, we have found in some cases that other conservation mechanisms, including the recovery planning process, section 6 funding to States, section 7 consultations, management plans, Safe Harbor agreements, and other on-the-ground strategies, also contribute to species' conservation. We will continue to work with local partner organizations to develop means for voluntary conservation of habitats for listed species. We believe these other conservation measures often provide incentives to, and in many cases they may be more cost-effective, promote positive working relationships and partnerships with landowners and stakeholders who implement active conservation measures that can thereby provide greater conservation benefits than are provided by the designation of critical habitat designation alone. These are factors that are appropriate for consideration in a section (4)(b)(2) exclusion analysis.

10. Comment: One commenter stated that he finds it disingenuous that the Service continues to claim that critical habitat does not provide additional protection or benefits for endangered and threatened species, especially in light of courts ruling that the Service's position on critical habitat violate congressional intent and the plain language of the ESA.

Our Response: The section entitled “The Role of Critical Habitat in Actual Practice of Administering and Implementing the Act” in the proposed rule has not been included in this final rule. We recognize that some benefits to species occur as a result of critical habitat designations as stated in the response to the previous comment. Federal activities outside of designated critical habitat areas are subject to review under section 7 of the Act if those activities may adversely affect the listed species or the PCEs contained within the critical habitat designation. The Ninth Circuit Court's decision in Gifford Pinchot Task Force v. United States Fish and Wildlife Service, 378 F.3d 1059 (9th Cir 2004) (hereinafter Gifford Pinchot) requires consideration of the recovery of species. Thus, through our implementation of section 7 of the Act with respect to agency actions affecting critical habitat, such designations may provide benefits to the recovery of a species. We have also found that critical habitat designations serve to educate landowners, State and local governments, and the public regarding the potential conservation value of the areas designated.

Comments From the Commonwealth of Puerto Rico

Section 4(i) of the Act states, “the Secretary shall submit to the State agency a written justification for his failure to adopt regulations consistent with the agency's comments or petition.” Comments were received from the Commonwealth of Puerto Rico Department of Natural and Environmental Resources (DNER).

11. Comment: DNER stated that it was important to include corridors between all known localities for the conservation of this species and recommended that the identification of critical habitat include a landscape analysis to identify areas that maintain the connectivity among different subpopulations.

Our Response: Please refer to our response to Comment 6.

12. Comment: DNER proposed adding three new localities to the critical habitat designation.

Our Response: Of the three sites recommended by DNER, only one was located and verified. Attempts to identify the actual location of the other two sites were unsuccessful. The one site that could be located is in the municipality of Juncos and within the geographical area generally occupied by the species at the time of listing; however, we were unable to determine whether this specific locality was actually occupied at the time of listing. The site is currently occupied by the species and contains PCEs needed to support life history functions of the species, such as foraging areas; shelter; sites for breeding; and habitats that are protected from disturbance. We have determined that this site is essential to the conservation of the species because of the representation, redundancy, and resiliency provided by the species at this site in relation to the species as a whole. Further, it contains the PCEs needed to support life history functions of the species, such as foraging areas; shelter; sites for breeding; and habitats that are protected from disturbance. This site was proposed as Unit 16 in our June 19, 2007, notice (72 FR 33715), and is included in this final designation as Unit 16.

Summary of Changes From Proposed Rule

In preparing this final critical habitat designation for the guajón, we reviewed and considered all comments from the public on the proposed designation of critical habitat published on October 5, 2006 (71 FR 58953) and our announcement of the availability of the DEA and proposal of five additional units as critical habitat published on June 19, 2007 (72 FR 33715). Based on peer review, public comments, and biological information received during the public comment periods, the final designation includes the five additional units: El Cielito, Verraco, Cueva Marcela, Ceiba Sur, and Playita (Units 13-17). These five units: (1) Are within the historical range of the species and, with the exception of Ceiba Sur, were occupied at the time of listing, (2) provide elements essential for the long-term persistence of guajón populations (e.g., caves or large plutonic, granitic, or sedimentary boulders that form crevices and grottoes, forested streambeds where guajón may forage, and high humidity) or, in the case of Ceiba Sur, the area has been determined to be essential to the conservation of the species, and (3) are currently occupied. These are the same five additional units that were proposed in the June 19, 2007, revision to the proposal (72 FR 33715).

Critical Habitat

Critical habitat is defined in section 3 of the Act as:

(1) The specific areas within the geographical area occupied by a species, at the time it is listed in accordance with the Act, on which are found those physical or biological features

(a) Essential to the conservation of the species and

(b) Which may require special management considerations or protection; and

(2) Specific areas outside the geographical area occupied by a species at the time it is listed, upon a determination that such areas are essential for the conservation of the species.

Conservation, as defined under section 3 of the Act, means the use of all methods and procedures that are necessary to bring any endangered species or threatened species to the point at which the measures provided under the Act are no longer necessary.

Critical habitat receives protection under section 7 of the Act through the prohibition against Federal agencies carrying out, funding, or authorizing the destruction or adverse modification of critical habitat. Section 7 of the Act requires consultation on Federal actions that may affect critical habitat. The designation of critical habitat does not affect land ownership or establish a refuge, wilderness, reserve, preserve, or other conservation area. Such designation does not allow the government or public to access private lands. Such designation does not require implementation of restoration, recovery, or enhancement measures by the landowner Under any circumstances. Where the landowner seeks or requests federal agency funding or authorization that may affect a listed species or critical habitat, the consultation requirements of Section 7 would apply, but even in the event of a destruction or adverse modification finding, the landowner's obligation is not to restore or recover the species, but to implement reasonable and prudent alternatives to avoid destruction or adverse modification of critical habitat.

For inclusion in a critical habitat designation, habitat within the geographical area occupied by the species at the time it was listed must contain features that are essential to the conservation of the species. Critical habitat designations identify, to the extent known using the best scientific data available, habitat areas that provide essential life cycle needs of the species (areas on which are found the primary constituent elements, as defined at 50 CFR 424.12(b)).

Occupied habitat that contains the features essential to the conservation of the species meets the definition of critical habitat only if those features may require special management considerations or protection.

Under the Act, we can designate unoccupied areas as critical habitat only when we determine that the best available scientific data demonstrate that the designation of that area is essential to the conservation needs of the species.

Section 4 of the Act requires that we designate critical habitat on the basis of the best scientific and commercial data available. Further, our Policy on Information Standards Under the Endangered Species Act (published in the Federal Register on July 1, 1994 (59 FR 34271)), the Information Quality Act (section 515 of the Treasury and General Government Appropriations Act for Fiscal Year 2001 (Pub. L. 106-554; H.R. 5658)), and our associated Information Quality Guidelines, provide criteria, establish procedures, and provide guidance to ensure that our decisions are based on the best scientific data available. They require our biologists, to the extent consistent with the Act and with the use of the best scientific data available, to use primary and original sources of information as the basis for recommendations to designate critical habitat.

When we are determining which areas should be proposed as critical habitat, our primary source of information is generally the information developed during the listing process for the species. Additional information sources may include the recovery plan for the species, articles in peer-reviewed journals, conservation plans developed by States and counties, scientific status surveys and studies, biological assessments, or other unpublished materials and expert opinion or personal knowledge.

Habitat is often dynamic, and species may move from one area to another over time. Furthermore, we recognize that designation of critical habitat may not include all of the habitat areas that we may eventually determine, based on scientific data not now available to the Service, are necessary for the recovery of the species. For these reasons, a critical habitat designation does not signal that habitat outside the designated area is unimportant or may not be required for recovery of the species.

Areas that support populations, but are outside the critical habitat designation, will continue to be subject to conservation actions we implement under section 7(a)(1) of the Act. They are also subject to the regulatory protections afforded by the section 7(a)(2) jeopardy standard, as determined on the basis of the best available scientific information at the time of the agency action. Federally funded or permitted projects affecting listed species outside their designated critical habitat areas may still result in jeopardy findings in some cases. Similarly, critical habitat designations made on the basis of the best available information at the time of designation will not control the direction and substance of future recovery plans, habitat conservation plans (HCPs), or other species conservation planning efforts as any new information available to these planning efforts calls for a different outcome.

Primary Constituent Elements

In accordance with section 3(5)(A)(i) of the Act and the regulations at 50 CFR 424.12, in determining which areas occupied at the time of listing to propose as critical habitat, we consider the primary constituent elements (PCEs) to be those physical and biological features that are essential to the conservation of the species and that may require special management considerations or protection. These include, but are not limited to:

(1) Space for individual and population growth and for normal behavior;

(2) Food, water, air, light, minerals, or other nutritional or physiological requirements;

(3) Cover or shelter;

(4) Sites for breeding, reproduction, or rearing (or development) of offspring; and

(5) Habitats that are protected from disturbance or are representative of the historic, geographical, and ecological distributions of a species.

The distribution of the guajón is associated with the granitic and plutonic rocks found in the Cuchilla de Panduras mountain range in southeastern Puerto Rico. The habitat of the guajón lies within several life zones as described by Ewel and Whitmore (1973, pp. 20-49). The variables used to delineate any given life zone are mean annual precipitation and mean annual temperature. The two predominant life zones found within guajón habitat are Subtropical Moist and Subtropical Wet forests. Trees up to 65.6 ft (20 m) tall, with rounded crowns, characterize the Subtropical Moist Forest life zone. Many of the woody species are deciduous during the dry season. The abundant moisture of the Subtropical Wet Forest life zone is evident in the character of its vegetation. Epiphytic ferns, bromeliads, and orchids are common, the forests are relatively rich in plant species, and the growth rates of successional trees are rapid. This type of forest contains more than 150 species of trees that form a dark, complete canopy at about 65.6 ft (20 m).

The guajón is found at low and intermediate elevations up to 1,312.3 ft (400 m) above sea level (Burrowes 1997, p. 52; Burrowes et al. 2004, p. 145; Rivero 1998, p. 13), where it inhabits caves formed by large boulders of granite rock, and in associated streams with patches of rock without cave systems (Burrowes and Joglar 1999, p. 706; Vega-Castillo 2000, p. 35; C. Ruiz-Lebrón, pers. comm., 2006). Caves are dark inside, although some light enters through gaps formed from the union of two or more boulders. Structurally, the caves are complex, having several chambers of irregular shape and size, and may be at different depths between the surface of the ground and stream (Burrowes 2000, p. 376). The ecological conditions of the caves are relatively uniform: Mean temperature and relative humidity are the same at any given month of the year, and they do not have thermal stratification (Rogowitz et al. 1999, p. 179; Rogowitz et al. 2001, pp. 542, 545; Burrowes 1997, p. 74).

Vega-Castillo (2000, pp. 36, 40) reported that in streams, the guajón has been found only in patches of rock in the streambed. The streams can be perennial, or ephemeral formed during heavy rain, and are surrounded by secondary forest. Rocks in the streambed form crevices and grottoes. Streams provide a wide variety of retreat sites for the species, such as vegetation over rocks (e.g., moss, ferns, and liverworts) that help conserve humidity. Temperature and relative humidity at streams vary with the months of the year. The foraging habitat of the guajón may extend outside the streambed in vegetated areas as far as 66 to 99 ft (20 to 30 m) from the water source (Vega-Castillo, pers. obs., 2001). In rocky, stream habitat, animals exit their retreat site at dusk to forage actively over rocks and vegetation.

Based on the above needs and our current knowledge of the life history, biology, and ecology of the species and the requirements to sustain the essential life history functions of the species, we have determined that PCEs for the guajón are:

(1) Subtropical forest (which may include trees such as Cecropia schreberiana, Dendropanax arboreus, Guarea guidonia, Piper aduncum, Spathodea campanulata, Syzygium jambos, and Thespesia populnea) at elevations from 118 to 1,183 ft (36 to 361 m) above sea level.

(2) Plutonic, granitic, or sedimentary rocks/boulders that form caves, crevices, and grottoes (interstitial spaces) in a streambed; and that are in proximity, or connected, to a permanent, ephemeral, or subterranean clear-water stream or water source. The interstitial spaces between or underneath rocks provide microenvironments characterized by generally higher humidity and cooler temperatures than outside the rock formations.

(3) Vegetation-covered rocks (the vegetation typically includes moss, ferns, and hepatics such as Thuidium urceolatum, Taxilejeunea sulphurea, and Huokeria acutifolia) extending laterally to a maximum of 99 ft (30 m) from each bank of the stream; these rocks provide cover and foraging sites and help conserve humidity.

We designate units based on sufficient PCEs being present to support at least one of the species' life history functions. Some units contain all of these PCEs and support multiple life processes, while some units contain only a portion of these PCEs, those necessary to support the species' particular use of that habitat.

Special Management Considerations or Protection

When designating critical habitat, we assess whether the occupied areas contain features that are essential to the conservation of the species and that may require special management considerations or protections. As discussed in more detail in the proposed critical habitat designation (October 5, 2006; 71 FR 58953) and in the unit descriptions below, we find that the units we are designating have features that may require special management considerations or protection due to threats to the primary constituent elements from road construction, agriculture, development, and fishing with chemicals. All the designated units are adjacent to agricultural lands, roads, trails, homes, or other manmade structures. Special management considerations and protection required include protection of the guajón and its habitat from threats posed by deforestation and earth movement near streams for road construction, agricultural, urban, and rural development. These threats may result in changes in the composition and abundance of vegetation in and around guajón habitat, and degradation of water quality from illegal garbage dumping, disposal of untreated sewage, and agricultural practices (e.g., use of herbicides, fertilizers, or insecticides).

Criteria Used To Identify Critical Habitat

As required by section 4(b) of the Act, we used the best scientific data available in identifying the areas that contain the physical and biological features essential to the conservation of the guajón (see Primary Constituent Elements section) and other areas that are essential to the conservation of this species. We have also reviewed available information that pertains to the habitat requirements of this species. This information included peer-reviewed scientific publications; unpublished reports from state and federal resource agencies and universities; field surveys and reports; information and maps from Puerto Rico Department of Natural and Environmental Resources, the Puerto Rico Planning Board, Puerto Rico Conservation Trust (PRCT), and U.S. Geological Survey topographic maps (scale 1:20,000); recent aerial photos; unpublished data and observations collected by Service biologists during recent field surveys; forest management plans from local agencies; the species' recovery plan; information received from local biologists and researchers who have worked with the species and its habitat; and information gathered during site visits to currently occupied sites. All information was used to determine the guajón's currently occupied range and habitat features needed to support the necessary biological functions of the species.

An area was considered for designation if it either (1) possessed one or more of the PCEs and was occupied by the guajón at the time of listing; or (2) is currently occupied by the guajón and has been determined to be essential to the conservation of the species, based on its ability to support life history functions and population level functions for the guajón, as well as the need to protect known/existing populations.

We selected areas of habitat known to be currently occupied by the species, based on field reports from the Puerto Rico DNER and the Conservation Trust of Puerto Rico, field visits from Service personnel, information from species guajón data cited in the scientific literature. Field reconnaissance was done in all areas for verification of presence/absence. Presence of the guajón was documented by listening for the distinctive call of the males. Based on this review and visual inspection of sites where the guajón was found, we identified 12 units that contain one or more of the PCEs.

During the public comment period on the proposal from October 6, 2006 to December 4, 2006, we received two comments recommending that a total of nine additional sites be included as critical habitat. Each of the nine sites was analyzed using the methods previously described. Five of these sites were proposed for designation in the June 19, 2007, revision to the proposal (72 FR 33715), and are included in this critical habitat designation. Of the other four sites, one was not included because it did not contain at least one PCE and the species was not present, one site was determined to be the same as the Emajagua Unit described in the October 5, 2006, proposed rule (71 FR 58953), and two sites could not be found following the directions provided in the comment. Thus, the designation includes 17 units that encompass approximately 260.6 ac (105.6) ha within the municipalities of Humacao, Juncos, Las Piedras, Maunabo, Patillas, San Lorenzo, and Yabucoa.

Boundaries for each unit were determined based on known guajón sightings, topographical features known to be needed by the species, the range of elevations used by the species, and visual inspection of the units. This habitat includes streams with patches of rocks and associated riparian vegetation that provides foraging habitat for the guajón. We have included a foraging area of 99 ft (30 m) extending laterally form each bank of creeks and drainages, as a result of the personal observations of Vega-Castillo that the foraging habitat of the guajón may extend outside the streambed in vegetated areas as far as 99 ft (30 m) from the water source (Vega-Castillo, pers. obs., 2001).

In summary, we are not designating any areas outside the geographical area presently occupied by the species because none were found to be essential to the conservation of the species, however, we are designating three small units that were not known to have been occupied at the time of listing, but are currently occupied. Units 1, 2, 4, 5, 6, 7, 8, 9, and 10, 13, 14, 15, and 17 constitute our best determination of areas that contain the physical and biological features essential for the conservation of the guajón, while Units 3, 11, 12, and 16 provide habitat we have determined is essential to the conservation of the species. A brief discussion of each critical habitat unit is provided below.

When determining critical habitat boundaries, we made every effort to avoid including within the boundaries of the map contained within this rule developed areas such as buildings or houses, paved areas, and other structures that lack PCEs for the guajón. The scale of the maps prepared under the parameters for publication within the Code of Federal Regulations may not reflect the exclusion of such developed areas. Any such structures and the land under them inadvertently left inside critical habitat boundaries shown on the maps of this final rule were excluded in the text of the proposed rule and are excluded in this final rule. Therefore, Federal actions involving these excluded areas would not trigger section 7 consultation with respect to critical habitat and the requirement of no adverse modification unless the specific action would affect the primary constituent elements in the adjacent critical habitat.

A brief discussion of each area designated as critical habitat is provided in the unit descriptions below. Additional detailed documentation concerning the essential nature of these areas is contained in our supporting record for this rulemaking.

Critical Habitat Designation

We are designating 17 units as critical habitat for the guajón. The critical habitat units described below (see Table 1) constitute our best assessment of areas that currently meet the definition of critical habitat for the guajón.

Table 1.—guajón Critical Habitat Units: Occupancy by Time Period (at the Time of Listing and Currently); Area of Each Unit; and Ownership.
Unit | Occupied at time of listing | Occupied currently | Acres (hectares) | Ownership
(1) Mariana | X | X | 23.6 (9.6) | Private.
(2) Montones | X | X | 31.1 (12.6) | Private.
(3) Tejas |  | X | 5.2 (2.1) | Private.
(4) Emajagua | X | X | 33.0 (13.4) | Private.
(5) Jacaboa | X | X | 10.3 (4.2) | Private.
(6) Calabazas | X | X | 13.8 (5.6) | Private.
(7) Guayanés | X | X | 7.9 (3.2) | Private.
(8) Panduras | X | X | 28.6 (11.6) | Private.
(9) Talante | X | X | 23.5 (9.5) | Private.
(10) Guayabota | X | X | 13.1 (5.3) | Private.
(11) Guayabito |  | X | 17.3 (7.0) | Private.
(12) Guayabo |  | X | 9.8 (3.9) | Private.
(13) El Cielito | X | X | 7.84 (3.17) | Private.
(14) Verraco | X | X | 8.9 (3.6) | Private.
(15) Cueva Marcela | X | X | 7.47 (3.02) | Private.
(16) Ceiba Sur |  | X | 13.92 (5.63) | Private.
(17) Playita | X | X | 5.27 (2.13) | Private.
Total |  |  | 260.6 (105.6)

Below we present brief descriptions of all units, and reasons why they meet the definition of critical habitat for guajón.

Unit 1: Mariana Unit

Unit 1 consists of approximately 23.6 ac (9.6 ha) located south of Road PR-909, west of Road PR-3, and north of Quebrada Catno within Mariana Ward, Humacao. Unit 1 contains 5,412.8 ft (1,649.8 m) of an unnamed, rocky stream with abundant water, a guajón foraging area extending laterally 99 ft (30 m) from each bank of the stream, and secondary forest on all sides of the stream. This unit was occupied at the time of listing (J. Sustache, DNER database, 1996). Every PCE is found within this unit, and presence of the species and PCEs at this site was confirmed by the Service in March 2006. Threats that may require special management considerations, due to the proximity of Unit 1 to urbanized areas and infrastructure (e.g., major roads), include changes in the composition and abundance of vegetation surrounding guajón habitat (PCEs 1 and 3), degradation of water quality due to agricultural practices (e.g., use of herbicides, fertilizers, or insecticides), and pollution of streams caused by human refuse (PCE 2).

Unit 2: Montones Unit

Unit 2 consists of approximately 31.1 ac (12.6 ha) in Montones Ward, Las Piedras. It contains 6,941.7 ft (2,115.8 m) of the headwaters of the Valenciano River in the vicinity of PR 917 Km 9.7, and a guajón foraging area of 99 ft (30 m) on each side of the river. This unit was occupied at the time of listing (F. Bird-Picó, DNER database, 1996). Although some sections of this unit do not contain PCE 1, all other PCEs are found within this unit (a rocky stream with abundant water surrounded by secondary forest, and a rocky creek surrounded by vines, herbaceous vegetation, shrubs, and trees). In some areas of the creek, the water disappears underground and reappears at various intervals. The presence of the species and PCEs at this site was confirmed by the Service in March 2006. Threats that may require special management considerations, due to the proximity of Unit 2 to urbanized areas and infrastructure (e.g., roads), include changes in the composition and abundance of vegetation surrounding guajón habitat (PCE 1 and 3), degradation of water quality due to agricultural practices (e.g., use of herbicides, fertilizers, or insecticides), and pollution of streams caused by human refuse (PCE 2).

Unit 3: Tejas Unit

Unit 3 consists of approximately 5.2 ac (2.1 ha) located between Road PR-905 to the east, Road PR-908 to the west, Road PR-9921 to the north, and Road PR-9904 to the south within Tejas Ward, Las Piedras. It contains 1,312 ft (400 m) of an unnamed tributary of the Río Humacao, and a guajón foraging area of 99 ft (30 m) on each side of the tributary. Every PCE is found within this unit (the area contains a rocky creek surrounded by vines, herbaceous vegetation, shrubs, and trees), and this was confirmed by the Service in March 2006. The Service has not determined whether Unit 3 was occupied at the time of listing, but we have determined that it is essential to the conservation of the guajón. The guajón was listed under the Act primarily due to its highly restricted geographical distribution and its specialized habitat requirements (Joglar 1998, p. 73). Thus, protection of all existing populations of the guajón is important to the conservation of the species. The habitat of this species is naturally fragmented, and the majority of the known populations are found on private land where increased levels of land development in southeastern Puerto Rico are occurring and threaten to further reduce and fragment the species' habitat, distribution, and survival (Joglar 1998, p. 73). Being a habitat specialist, the guajón is adapted to particular environmental conditions, and abrupt changes in these conditions could result in population declines. Additionally, fragmenting habitat through human intrusions, such as roads, makes populations less resilient to natural population declines (Pechman et al. 1991, p. 895). In light of the foregoing and because it is currently occupied by the species and contains sufficient PCEs to support the life functions of the species, we have determined that Unit 3 is essential to the conservation of the species.

Unit 4: Emajagua Unit

Unit 4 consists of approximately 33.0 ac (13.4 ha) between Quebrada Arenas and Quebrada Emajagua, north of Road PR-901 (on the periphery of an underground tunnel under construction), within Emajagua Ward, Maunabo. It contains three connected, unnamed streams/drainages totaling about 7,400 ft (2,256 m), and a guajón foraging area of 99 ft (30 m) on each side of the streams/drainages. This unit was occupied at the time of listing (R. Thomas, DNER database, 1965). Every PCE is found within this unit, and presence of the species and PCEs at this site was confirmed by the Service in April 2006. Threats that may require special management considerations, due to the proximity of Unit 4 to urbanized areas and infrastructure (e.g., major roads), include changes in the composition and abundance of vegetation surrounding guajón habitat (PCEs 1 and 3) and pollution of streams caused by human refuse (PCE 2).

Unit 5: Jacaboa Unit

Unit 5 consists of approximately 10.3 ac (4.2 ha) northwest of road PR-758 within Rios Ward, Patillas. It contains 2,334.6 ft (711.6 m) of an unnamed rocky drainage to the Jacaboa River, and a guajón foraging area of 99 ft (30 m) on each side of the drainage. This unit was occupied at the time of listing (R. Thomas, DNER database, 1965). Every PCE is found within this unit (it contains a rocky creek with small and large sedimentary rocks and boulders, closed forest canopy over the creek, and closed, mature forest along the shores, including some bamboo stands). The presence of the species and PCEs at this site was confirmed by the Service in April 2006. Threats that may require special management considerations, due to the proximity of Unit 5 to urbanized areas and infrastructure (e.g., roads), include changes in the composition and abundance of vegetation surrounding guajón habitat (PCEs 1 and 3), degradation of water quality due to agricultural practices (e.g., use of herbicides, fertilizers, or insecticides) and pollution of streams caused by human refuse (PCE 2).

Unit 6: Calabazas Unit

Unit 6 consists of approximately 13.8 ac (5.6 ha) located northeast of road PR-900, between Quebrada Guayabo to the south and Río Guayanés to the north, within Calabazas Ward, Yabucoa. The unit contains a 3,198 ft (975 m) stretch of a rocky creek surrounded by vines, herbaceous vegetation, shrubs, and trees, and a guajón foraging area of 99 ft (30 m) on each side of the drainage. This unit was occupied at the time of listing (J. Montero, DNER database, 1988). Every PCE is found within this unit, and presence of the species and PCEs at this site was confirmed by the Service in March 2006. Threats that may require special management considerations, due to the proximity of Unit 6 to urbanized areas and infrastructure (e.g., roads), include changes in the composition and abundance of vegetation surrounding guajó habitat (PCEs 1 and 3), degradation of water quality due to agricultural practices (e.g., use of herbicides, fertilizers, or insecticides), and pollution of streams caused by human refuse (PCE 2).

Unit 7: Guayanés Unit

Unit 7 consists of approximately 7.9 ac (3.2 ha) northeast of Road PR-900 between Quebrada Guayabo to the south and Río Guayanés to the north, and north of Unit 6, within Calabazas Ward, Yabucoa. It contains 4,265 ft (1,300 m) of an unnamed drainage, and a guajón foraging area of 99 ft (30 m) on each side of the drainage. This unit was occupied at the time of listing (J. Montero, DNER database, 1988). Every PCE is found within this unit (it contains a rocky creek surrounded by vines, herbaceous vegetation, shrubs, and trees). The presence of the species and PCEs at this site was confirmed by the Service in March 2006. Threats that may require special management considerations, due to the proximity of Unit 7 to urbanized areas and infrastructure (e.g., roads), include changes in the composition and abundance of vegetation surrounding guajón habitat (PCEs 1 and 3), degradation of water quality due to agricultural practices (e.g., use of herbicides, fertilizers, or insecticides), and pollution of streams caused by human refuse (PCE 2).

Unit 8: Panduras Unit

Unit 8 consists of approximately 28.6 ac (11.6 ha) to the northwest and southeast of Road PR-3 within Calabazas Ward, Yabucoa. It contains 2,314.1 ft (705.6 m) of an unnamed drainage, a guajón foraging area of 99 ft (30 m) on each side of the drainage, and 18.2 ac (7.4 ha) of lands owned by the PRCT near the top of Cerro La Pandura. This unit was occupied at the time of listing (J. Rivero 1998, DNER database, 1978). Every PCE is found within this unit (it contains a rocky area with medium and large granite boulders, a drainage with closed-canopy forest over the drainage, and closed, mature forest along the edges). The presence of the species and PCEs at this site was confirmed by the Service in March 2006. Threats that may require special management considerations, due to the proximity of Unit 8 to urbanized areas and infrastructure (e.g., roads), include changes in the composition and abundance of vegetation surrounding guajón habitat (PCEs 1 and 3) and pollution of streams caused by human refuse (PCE 2). This area does not currently have a management plan (Fernando Silva, pers. comm., 2006).

Unit 9: Talante Unit

Unit 9 consists of approximately 23.5 ac (9.5 ha) east of Road PR-3 within Calabazas Ward and Talante Ward, Yabucoa. It contains the headwaters of the Talante Creek, five unnamed drainages (totaling about 3,500 ft (1,061 m)), and a guajón foraging area of 99 ft (30 m) on each side of the creek and drainages. About 2.8 ac (1.1 ha) of Unit 9 are within Calabazas Ward, and the remaining 21.6 ac (8.7 ha) are within Talante Ward. This unit was occupied at the time of listing (J. Rivero 1998, DNER database, 1978). Every PCE is found within this unit (it contains drainages with medium and large granite boulders that are surrounded by vines, herbaceous vegetation, shrubs, and trees, and that connect to a small rocky creek; some patches contain big rocks that are completely exposed to the sun or covered with vines). The presence of the species and PCEs at this site was confirmed by the Service in April 2006. Threats that may require special management considerations, due to the proximity of Unit 9 to urbanized areas and infrastructure (e.g., major roads), include changes in the composition and abundance of vegetation surrounding guajón habitat (PCEs 1 and 3), degradation of water quality due to agricultural practices (e.g., use of herbicides, fertilizers, or insecticides) and pollution of streams caused by human refuse (PCE 2).

Unit 10: Guayabota Unit

Unit 10 consists of approximately 13.1 ac (5.3 ha) northeast of intersection of roads PR-181 and PR-182, and south of the municipal boundary with San Lorenzo, within Guayabota Ward, Yabucoa. It contains a small unnamed creek (about 700 ft (212 m)), and a guajón foraging area of 99 ft (30 m) on each side of the creek. This unit was occupied at the time of listing (J. Rivero, DNER database, 1980; Burrowes 1997). Every PCE is found within this unit. The northwest section of the rocky creek (large and medium granite boulders) is surrounded by closed canopy over the creek, with herbaceous vegetation and some trees along the shore. The southeastern section of the rocky creek has large and medium sedimentary boulders and is surrounded by semi-closed canopy over the creek and shores that are primarily exposed to the sun, with some areas covered with grass. The presence of the species and PCEs at this site was confirmed by the Service in April 2006. Threats that may require special management considerations, due to the proximity of this unit to urbanized areas and infrastructure (e.g., roads), include changes in the composition and abundance of vegetation surrounding guajón habitat (PCEs 1 and 3), degradation of water quality due to agricultural practices (e.g., use of herbicides, fertilizers, or insecticides), and pollution of streams caused by human refuse (PCE 2).

Unit 11: Guayabito Unit

Unit 11 consists of approximately 17.3 ac (7.0 ha) south of Road PR-900 and north of the Maunabo boundary, within Guayabota Ward, Yabucoa. It contains 1,232.6 ft (4,042 m) of an unnamed drainage and tributary that connects to Quebrada Guayabo, and a guajón foraging area of 99 ft (30 m) on each side of both the drainage and tributary. This unit was not known to be occupied at the time of listing. The unit is split into a rocky drainage to the west (large, clumped, granite boulders), and a rocky creek to the east (large granite boulders). Both are surrounded by closed canopy over the drainage and creek, and closed mature forest along the shores. Thus, every PCE is found within this unit, and presence of the species and PCEs at this site was confirmed by the Service in April 2006. The Service has not determined whether Unit 11 was occupied at the time of listing, but we have determined that it is essential to the conservation of the guajón for several reasons. The boulders and closed canopy provide the essential habitat for guajón reproduction and foraging. The guajón was listed primarily due to its highly restricted geographical distribution and habitat requirements (Joglar 1998, p. 73). The habitat of this species is naturally fragmented, and the majority of the known populations are on private land, where the increased levels of land development currently occurring in southeastern Puerto Rico threaten to further reduce and fragment the species' habitat, distribution, and survival (Joglar 1998, p. 73). Being a habitat specialist, the guajón is adapted to particular environmental conditions, and abrupt changes in these conditions could result in population declines. Additionally, fragmenting habitat through human intrusions such as roads makes populations less resilient to natural population declines (Pechman et al. 1991, p. 895).

Unit 12: Guayabo Unit

Unit 12 consists of approximately 9.8 ac (3.9 ha) along Quebrada Guayabo, along and south of Road PR-900 in Guayabota Ward, Yabucoa. It contains 2,247.5 ft (685 m) of the southwesternmost section of Quebrada Guayabo, and a guajón foraging area of 99 ft (30 m) on each side of the stream. Every PCE is found within this unit and presence of the species and PCEs at this site was confirmed by the Service in April 2006. The Service has not determined whether Unit 12 was occupied at the time of listing, but we have determined that it is essential to the conservation of the guajón because it contains the PCEs (a rocky stream surrounded by closed canopy over the stream, and closed mature forest along the shores that provide the habitat essential to the guajón for food, shelter, breeding, foraging, and population expansion), and because it is occupied. Due to the species' limited distribution and the specialized habitat it occupies, protection of all existing populations of the guajón is extremely important to conservation of the species.

The habitat of this species is naturally fragmented, and remaining habitat is threatened by land development which can further reduce and fragment the species' habitat, distribution, and survival (Joglar 1998, p. 73). Being a habitat specialist, the guajón is adapted to particular environmental conditions, and abrupt changes in these conditions could result in population declines. Additionally, fragmenting habitat through human intrusions, such as roads, makes populations less resilient to natural population declines (Pechman et al. 1991, p. 895).

Unit 13: El Cielito Unit

Unit 13 consists of approximately 7.84 ac (3.17 ha), between the municipal boundary of Yabucoa to the north, PR-759 to the south and west, and PR-3 to the east, within Talante Ward, Maunabo. It includes 1,778.15 ft (541.98 m) of a drainage that connects with Quebrada Tumbada, and a guajón foraging area extending laterally 99 ft (30 m) from each side of the drainage. This unit was occupied at the time of listing (Joglar, pers. comm., 2007). It consists of a steep, forested drainage with large granite boulders forming large caves, vegetation-covered rocks, and with high humidity. No surface running water is present, but humidity is maintained through percolation from underground water. All PCEs are found within this unit. The presence of the species and PCEs at this site was confirmed by the Service in February 2007. Threats that may require special management considerations, due to Unit 13 being located on a private farm about 1.2 mi (2 km) to the west of PR-3, include changes in the composition and abundance of vegetation surrounding guajón habitat (PCEs 1 and 3), degradation of water quality due to agricultural practices (e.g., use of herbicides, fertilizers, or insecticides), and pollution of streams or underground aquifers caused by human and domestic animal refuse (PCE 2).

Unit 14: Verraco Unit

Unit 14 consists of approximately 8.9 ac (3.6 ha), between PR-181 to the north and west, Río Grande de Loíza to the east and south, and the municipal boundary of Yabucoa to the south, within Espino Ward, San Lorenzo. It includes three drainages that connect with Quebrada Verraco, and a guajón foraging area extending laterally 99 ft (30 m) from each side of each drainage. This unit was occupied at the time of listing (Burrowes 1997). It is heavily forested and humid, and contains very large granite boulder formations covered with vegetation. No surface running water is present, but humidity is maintained through percolation from underground water. All PCEs are found within this unit. The presence of the species and PCEs at this site was confirmed by the Service in February 2007. Threats that may require special management considerations, due to Unit 14 being located in a private farm about 0.9 mi (1.5 km) from Rd 181, include changes in the composition and abundance of vegetation surrounding guajón habitat (PCEs 1 and 3), degradation of water quality due to agricultural practices (e.g., use of herbicides, fertilizers, or insecticides) and pollution of streams/underground aquifers caused by human and domestic animal refuse (PCE 2).

Unit 15: Cueva Marcela Unit

Unit 15 is referred to as Cuevas Dona Marcela by Burrowes (1997, 2000) and Burrowes and Joglar (1999), and consists of approximately 7.4 ac (3.02 ha) between PR-181 and Quebrada Verraco to the north, PR-181 to the west, and Río Grande de Loíza and the municipal boundary of Yabucoa to the south, within Espino Ward, San Lorenzo. It includes two drainages that are not connected and a guajón foraging area extending laterally 99 ft (30 m) from each side of both drainages. The north drainage is approximately 4.28 ac (1.73 ha), and the south drainage is approximately 3.2 ac (1.3 ha). This unit was occupied at the time of listing (Joglar 1996). Both drainages have large, vegetation-covered granite boulders that create caves within patchy secondary forest. There is no surface running water, but humidity is maintained through puddles and intermittent streams formed during rainy events. All PCEs are found within this unit. The presence of the species and PCEs at this site was confirmed by the Service in February 2007. Threats that may require special management considerations, due to Unit 15 being located on a private farm about 1.2 mi (2 km) from Road 181, include changes in the composition and abundance of vegetation surrounding guajón habitat (PCEs 1 and 3), degradation of water quality due to agricultural practices (e.g., use of herbicides, fertilizers, or insecticides) and pollution of streams or underground aquifers caused by human and domestic animal refuse (PCE 2).

Unit 16: Ceiba Sur Unit

Unit 16 consists of approximately 13.92 ac (5.63 ha) between Road PR-9934 to the east, and Road PR-919 to the west within Ceiba Sur Ward, Juncos. It includes 3,123 ft (951.91 m) of an intermittent stream that connects with the Río Valenciano, and a guajón foraging area extending laterally 99 ft (30 m) on each side of the drainage. Every PCE is found within this unit, and presence of the species and PCEs at this site was confirmed by the Service in January 2007. The Service has not determined whether Unit 16 was occupied at the time of listing, but we have determined that it is essential to the conservation of the guajón because it contains the PCEs (the area has high humidity and contains densely forested stream banks, large sedimentary rocks, and vegetation-covered rocks) and because it is occupied. The guajón was listed primarily due to its highly restricted geographical distribution and habitat requirements (Joglar 1998, p. 73). The habitat of this species is naturally fragmented and the majority of the known populations are on private land where the increased levels of land development currently occurring in southeastern Puerto Rico where the species occurs, threatens to further reduce and fragment the species habitat, distribution, and survival (Joglar 1998, p. 73). Being a habitat specialist, the guajón is adapted to particular environmental conditions, and abrupt changes in these conditions could result in population declines. Additionally, fragmenting habitat through human intrusions such as roads makes populations less resilient to natural population declines (Pechman et al. 1991, p. 895). Protection of existing populations of the guajón is extremely important due to its limited distribution and the specialized habitat it occupies.

Unit 17: Playita Unit

Unit 17 consists of approximately 5.27 ac (2.13 ha), between PR-900 to the north and east and the municipal boundary of Maunabo to the south, within Calabazas Ward, Yabucoa. It includes 1,208.9 ft (368.47 m) of a forested stream that connect with Río Guayabo, and a guajón foraging area extending laterally 99 ft (30 m) on each side of the drainage. This unit was occupied at the time of listing (Joglar, pers. comm., 2007). It is sparsely forested and humid, and it contains very large, vegetation-covered granite boulder formations. All PCEs are found within this unit. The presence of the species and PCEs at this site was confirmed by the Service in February 2007. Threats that may require special management considerations, due to Unit 17 being located adjacent to private homes and close to an ancillary road to PR-900, include changes in the composition and abundance of vegetation surrounding guajón habitat (PCEs 1 and 3), degradation of water quality due to use of herbicides, fertilizers, or insecticides, and pollution of the stream caused by human and domestic animal refuse (PCE 2).

Effects of Critical Habitat Designation

Section 7 Consultation

Section 7(a)(2) of the Act requires Federal agencies, including the Service, to ensure that actions they fund, authorize, or carry out are not likely to destroy or adversely modify critical habitat. Decisions by the 5th and 9th Circuit Court of Appeals have invalidated our definition of “destruction or adverse modification” (50 CFR 402.02) (see Gifford Pinchot and Sierra Club v. U.S. Fish and Wildlife Service et al., 245 F.3d 434, 442F (5th Cir. 2001)), and we do not rely on this regulatory definition when analyzing whether an action is likely to destroy or adversely modify critical habitat. Under the statutory provisions of the Act, we determine destruction or adverse modification on the basis of whether, with implementation of the proposed Federal action, the affected critical habitat would remain functional (or retain the current ability for the PCEs to be functionally established) to serve its intended conservation role for the species.

If a species is listed or critical habitat is designated, section 7(a)(2) of the Act requires Federal agencies to ensure that activities they authorize, fund, or carry out are not likely to jeopardize the continued existence of the species or to destroy or adversely modify its critical habitat. If a Federal action may affect a listed species or its critical habitat, the responsible Federal agency (action agency) must enter into consultation with us. As a result of this consultation, we document compliance with the requirements of section 7(a)(2) through our issuance of:

(1) A concurrence letter for Federal actions that may affect, but are not likely to adversely affect, listed species or critical habitat; or

(2) A biological opinion for Federal actions that may affect, and are likely to adversely affect, listed species or critical habitat.

When we issue a biological opinion concluding that a project is likely to jeopardize the continued existence of a listed species or destroy or adversely modify critical habitat, we also provide reasonable and prudent alternatives to the project, if any are identifiable. We define “Reasonable and prudent alternatives” at 50 CFR 402.02 as alternative actions identified during consultation that:

• Can be implemented in a manner consistent with the intended purpose of the action,

• Can be implemented consistent with the scope of the Federal agency's legal authority and jurisdiction,

• Are economically and technologically feasible, and

• Would, in the Director's opinion, avoid jeopardizing the continued existence of the listed species or destroying or adversely modifying critical habitat.

Reasonable and prudent alternatives can vary from slight project modifications to extensive redesign or relocation of the project. Costs associated with implementing a reasonable and prudent alternative are similarly variable.

Regulations at 50 CFR 402.16 require Federal agencies to reinitiate consultation on previously reviewed actions in instances where we have listed a new species or subsequently designated critical habitat that may be affected and the Federal agency has retained discretionary involvement or control over the action (or the agency's discretionary involvement or control is authorized by law). Consequently, Federal agencies may sometimes need to request reinitiation of consultation with us on actions for which formal consultation has been completed, if those actions with discretionary involvement or control may affect subsequently listed species or designated critical habitat.

Federal activities that may affect the guajón or its designated critical habitat require section 7 consultation under the Act. Activities on State, Tribal, local, or private lands requiring a Federal permit (such as a permit from the U.S. Army Corps of Engineers under section 404 of the Clean Water Act (33 U.S.C. 1251 et seq.) or a permit from us under section 10 of the Act) or involving some other Federal action (such as funding from the Federal Highway Administration, Federal Aviation Administration, or the Federal Emergency Management Agency) are subject to the section 7 consultation process. Federal actions not affecting listed species or critical habitat, and actions on State, Tribal, local, or private lands that are not federally funded, authorized, or permitted, do not require section 7 consultations.

Application of the “Adverse Modification” Standard

The key factor related to the adverse modification determination is whether, with implementation of the proposed Federal action, the affected critical habitat would continue to serve its intended conservation role for the species, or would retain its current ability for the primary constituent elements to be functionally established. Activities that may destroy or adversely modify critical habitat are those that alter the PCEs to an extent that appreciably reduces the conservation value of critical habitat for the guajón. Generally, the conservation role of the guajón critical habitat units is to support viable core area populations.

Section 4(b)(8) of the Act requires us to briefly evaluate and describe, in any proposed or final regulation that designates critical habitat, activities involving a Federal action that may destroy or adversely modify such habitat, or that may be affected by such designation.

Activities that, when carried out, funded, or authorized by a Federal agency, may affect critical habitat and therefore should result in consultation for the guajón include, but are not limited to:

(1) Activities that would significantly alter the vegetation structure in and around creeks, streams, and drainages. Such activities could include, but are not limited to, vegetation cutting for expanding or maintaining roads, development of new roads and trails, and construction of new homes and commercial establishments. The elimination or alteration of vegetation structure could result in habitat fragmentation that may interrupt the connection between populations, alter guajón foraging activities and the availability of foraging resources, reduce the quality of breeding microhabitat (e.g., change in temperature and humidity levels within breeding crevices and caves), and result in direct mortality of individuals through trampling or crushing, or desiccation from sun exposure.

(2) Activities that may alter the natural flow of water. Such activities could include, but are not limited to, stream modifications related to the expansion or maintenance of roads, development of new roads and trails, and construction of new homes and commercial establishments. Alteration of water flow may result in drowning of adults and loss of egg clutches through erosion and increase flash flooding, abandonment of suitable habitat and establishment into less-favorable areas, and reduction of breeding activities (e.g., insufficient or excessive humidity for proper egg development).

(3) Activities that may reduce the quality of water. Such activities could include, but are not limited to, recreational activities within major streams and rivers connecting drainages and tributaries used by the species, agricultural practices (e.g., use of pesticides, herbicides, or fertilizers), and pollution of streams caused by human refuse.

(4) Activities that eliminate or degrade the natural connection between guajón populations. Such activities could include, but are not limited to, vegetation cutting for expanding or maintaining roads, development of new roads and trails, and construction of new homes and commercial establishments. These activities may interrupt the connection between existing populations; thus, dispersal and interaction between subpopulations could be affected, restricting gene flow and jeopardizing the integrity of the species' gene pool.

Each of the units designated as critical habitat contains features essential to the conservation of the guajón or is essential to the conservation of the guajón. All units are within the geographic range of the species, thirteen are known to have been occupied by the species at the time of lisitng, and all are likely to be used by the guajón. Federal agencies already consult with us on activities in areas currently occupied by the guajón, or if the species may be affected by the action, to ensure that their actions do not jeopardize the continued existence of the guajón.

Exemptions and Exclusions

Application of Section 4(a)(3) of the Act

The Sikes Act Improvement Act of 1997 (Sikes Act) (16 U.S.C. 670a) required each military installation that includes land and water suitable for the conservation and management of natural resources to complete an integrated natural resource management plan (INRMP) by November 17, 2001. An INRMP integrates implementation of the military mission of the installation with stewardship of the natural resources found on the base. Each INRMP includes:

• An assessment of the ecological needs on the installation, including the need to provide for the conservation of listed species;

• A statement of goals and priorities;

• A detailed description of management actions to be implemented to provide for these ecological needs; and

• A monitoring and adaptive management plan.

Among other things, each INRMP must, to the extent appropriate and applicable, provide for fish and wildlife management; fish and wildlife habitat enhancement or modification; wetland protection, enhancement, and restoration where necessary to support fish and wildlife; and enforcement of applicable natural resource laws.

The National Defense Authorization Act for Fiscal Year 2004 (Pub. L. 108-136) amended the Act to limit areas eligible for designation as critical habitat. Specifically, section 4(a)(3)(B)(i) of the Act (16 U.S.C. 1533(a)(3)(B)(i)) now provides: “The Secretary shall not designate as critical habitat any lands or other geographical areas owned or controlled by the Department of Defense, or designated for its use, that are subject to an integrated natural resources management plan prepared under section 101 of the Sikes Act (16 U.S.C. 670a), if the Secretary determines in writing that such plan provides a benefit to the species for which critical habitat is proposed for designation.”

There are no Department of Defense lands within the critical habitat designation that have completed an INRMP.

Application of Section 4(b)(2) of the Act

Section 4(b)(2) of the Act states that the Secretary must designate and revise critical habitat on the basis of the best available scientific data after taking into consideration the economic impact, national security impact, and any other relevant impact of specifying any particular area as critical habitat. The Secretary may exclude an area from critical habitat if he determines that the benefits of such exclusion outweigh the benefits of specifying such area as part of the critical habitat, unless he determines, based on the best scientific data available, that the failure to designate such area as critical habitat will result in the extinction of the species. In making that determination, the legislative history is clear that the Secretary has broad discretion regarding which factor(s) to use and how much weight to give to any factor.

Under section 4(b)(2) of the Act, in considering whether to exclude a particular area from the designation, we must identify the benefits of including the area in the designation, identify the benefits of excluding the area from the designation, and determine whether the benefits of exclusion outweigh the benefits of inclusion. If based on this analysis, we make this determination, then we can exclude the area only if such exclusion would not result in the extinction of the species.

Under section 4(b)(2) of the Act, we must consider all relevant impacts, including economic impacts. We consider a number of factors in a section 4(b)(2) analysis. For example, we consider whether there are lands owned or managed by the Department of Defense (DOD) where a national security impact might exist. We also consider whether the landowners have developed any conservation plans for the area, or whether there are conservation partnerships that would be encouraged by designation of, or exclusion from, critical habitat. In addition, we look at any tribal issues, and consider the government-to-government relationship of the United States with tribal entities. We also consider any social impacts that might occur because of the designation.

In this instance, we have determined that the lands within the proposed designation of critical habitat for the guajón are not owned or managed by the Department of Defense, there are currently no habitat conservation plans for the guajón, and the proposed designation does not include any Tribal lands or trust resources. We anticipate no impact to national security, Tribal lands, partnerships, or habitat conservation plans from this proposed critical habitat designation. There are no areas excluded from this final designation based on non-economic impacts.

Economics

Section 4(b)(2) of the Act requires that we designate or revise critical habitat based upon the best scientific and commercial data available, after taking into consideration the economic impact, impact on national security, or any other relevant impact of specifying any particular area as critical habitat. In order to consider economic impacts, we prepared a draft economic analysis based on the October 5, 2006, proposed rule (71 FR 58954) plus the five additional units described in our June 19, 2007, notice (72 FR 33715).

The economic analysis considered the potential economic effects of all actions related to the conservation of the guajón, including costs associated with sections 4, 7, and 10 of the Act, as well as those attributable to designating critical habitat. It further considers the economic effects of protective measures taken as a result of other Federal, State, and local laws that aid habitat conservation for the guajón in proposed critical habitat areas. The analysis considered both economic efficiency and distributional effects. In the case of habitat conservation, efficiency effects generally reflect lost economic opportunities associated with restrictions on land use (opportunity costs). This analysis also addressed how potential economic impacts are likely to be distributed, including an assessment of any local or regional impacts of habitat conservation and the potential effects of conservation activities on small entities and the energy industry. This information can be used by decisionmakers to assess whether the effects of the designation might unduly burden a particular group or economic sector. Finally, this analysis looked retrospectively at costs that have been incurred since the date this species was listed as threatened (June 11, 1997; 62 FR 31757), and considered those costs that may occur in the 20 years following designation of critical habitat (i.e., 2007-2026).

The final economic analysis is intended to quantify the economic impacts of all potential conservation efforts for the guajón; some of these costs will likely be incurred regardless of whether critical habitat is designated. Over the 20-year period 2007-2026, the draft economic analysis finds that costs associated with conservation activities for the guajón are estimated at $4.34 million in undiscounted dollars, $4.28 million when discounted at 3 percent, and $4.23 when discounted at 7 percent. Annualized future costs are $288,000 using a 3 percent discount rate and $399,000 using a 7 percent discount rate.

Potential future costs are dominated by the expected costs of guajón conservation efforts during road construction, specifically the extension of Puerto Rico Highway 53 between Maunabo and Yabucoa. These costs will be borne by the Commonwealth of Puerto Rico. In 2004, the Puerto Rico Highway and Transportation Authority (PRHTA) began construction of the 5.7-mi (9.1-km) extension, which intersects the Emajagua Unit. The project is slated for completion in the summer of 2008. Anticipated guajón conservation efforts during the highway extension include species monitoring, acquiring land for conservation, constructing an additional bridge to permit stream flow, and installing rocky streambed in box culverts. The PRHTA does not anticipate additional road projects in the future in or near proposed critical habitat.

Because our economic analysis did not identify any disproportionate costs resulting from the designation, we did not consider excluding any areas from this designation of critical habitat for guajón based on economic impacts.

A copy of the final economic analysis with supporting documents may be obtained by contacting U.S. Fish and Wildlife Service, Branch of Endangered Species (see FOR FURTHER INFORMATION CONTACT) or for downloading from the Internet at http:// www.fws.gov/southeast.

Required Determinations

Regulatory Planning and Review

In accordance with Executive Order (E.O.) 12866, this document is a significant rule because it may raise novel legal and policy issues. Based on our draft economic analysis of the proposed designation of critical habitat for the guajón, costs related to conservation activities for the guajón pursuant to sections 4, 7, and 10 of the Act are estimated to be approximately $4.34 million in undiscounted dollars. Discounted future costs are estimated to be $4.28 million ($288,000 annually) at a 3 percent discount rate, or $4.23 million ($399,000 annually) at a 7 percent discount rate. Therefore, based on our draft economic analysis, we have determined that the proposed designation of critical habitat for the guajón would not result in an annual effect on the economy of $100 million or more or affect the economy in a material way. Due to the timeline for publication in the Federal Register, the Office of Management and Budget (OMB) has not formally reviewed the proposed rule or accompanying economic analysis.

Further, Executive Order 12866 directs Federal agencies promulgating regulations to evaluate regulatory alternatives (Office of Management and Budget, Circular A-4, September 17, 2003). Pursuant to Circular A-4, once it has been determined that the Federal regulatory action is appropriate, the agency will need to consider alternative regulatory approaches. Since the determination of critical habitat is a statutory requirement pursuant to the Act, we must then evaluate alternative regulatory approaches, where feasible, when promulgating a designation of critical habitat.

In developing our designations of critical habitat, we consider economic impacts, impacts to national security, and other relevant impacts pursuant to section 4(b)(2) of the Act. Based on the discretion allowable under this provision, we may exclude any particular area from the designation of critical habitat providing that the benefits of such exclusion outweigh the benefits of specifying the area as critical habitat and that such exclusion would not result in the extinction of the species. We believe that the evaluation of the inclusion or exclusion of particular areas, or combination thereof, in a designation constitutes our regulatory alternative analysis.

Regulatory Flexibility Act (5 U.S.C. 601 et seq.)

Under the Regulatory Flexibility Act (RFA) (5 U.S.C. 601 et seq., as amended by the Small Business Regulatory Enforcement Fairness Act (SBREFA) (5 U.S.C. 802(2)), whenever an agency is required to publish a notice of rulemaking for any proposed or final rule, it must prepare and make available for public comment a regulatory flexibility analysis that describes the effect of the rule on small entities (i.e., small businesses, small organizations, and small government jurisdictions). However, no regulatory flexibility analysis is required if the head of an agency certifies the rule will not have a significant economic impact on a substantial number of small entities. In our proposed rule, we withheld our determination of whether this designation would result in a significant effect as defined under SBREFA until we completed our draft economic analysis of the proposed designation so that we would have the factual basis for our determination.

According to the Small Business Administration (SBA), small entities include small organizations, such as independent nonprofit organizations, and small governmental jurisdictions, including school boards and city and town governments that serve fewer than 50,000 residents, as well as small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we considered the types of activities that might trigger regulatory impacts under this designation as well as types of project modifications that may result. In general, the term significant economic impact is meant to apply to a typical small business firm's business operations.

To determine if the proposed guajón critical habitat designation would affect a substantial number of small entities, we considered the number of small entities affected within particular types of economic activities (e.g., residential and commercial development and agriculture). We considered each industry or category individually to determine if certification is appropriate. In estimating the numbers of small entities potentially affected, we also considered whether their activities have any Federal involvement; some kinds of activities are unlikely to have any Federal involvement and so will not be affected by the designation of critical habitat. Designation of critical habitat only affects activities conducted, funded, permitted, or authorized by Federal agencies; non-Federal activities are not affected by the designation.

In our draft economic analysis of the proposed critical habitat designation, we evaluated the potential economic effects on small business entities resulting from conservation actions related to the listing of the guajón and proposed designation of its critical habitat. This analysis estimated prospective economic impacts due to the implementation of guajón conservation efforts in four categories: (a) Deforestation and earth movement near streams for road construction; (b) agricultural practices (e.g., use of herbicides, fertilizers, or insecticides); (c) urban and rural development; and (d) degradation of water quality from illegal garbage dumping, untreated sewage, and fishing with chemicals. We determined from our analysis that in the economic impacts of the designation are expected to be borne primarily by the Puerto Rico Highway and Transportation Authority, an agency of the Commonwealth of Puerto Rico, during construction of PR Highway 53. However, the government of the Commonwealth does not meet the SBA criteria for a small entity. Consequently, we certify that the designation of critical habitat for the guajón will not result in a significant economic impact on a substantial number of small business entities. Please see the “Economic Analysis” section above and the draft economic analysis itself for a more detailed discussion of potential economic impacts.

Energy Supply, Distribution, or Use (E.O. 13211)

On May 18, 2001, the President issued E.O. 13211 on regulations that significantly affect energy supply, distribution, or use. E.O. 13211 requires agencies to prepare Statements of Energy Effects when undertaking certain actions. This proposed designation of critical habitat for guajón is considered a significant regulatory action under E.O. 12866 because it raises novel legal and policy issues. OMB has provided guidance for implementing this E.O. that outlines nine outcomes that may constitute “a significant adverse effect” when compared without the regulatory action under consideration. The draft economic analysis finds that none of these criteria are relevant to this analysis. Thus, based on information in the draft economic analysis, energy-related impacts associated with guajón conservation activities within proposed critical habitat are not expected. As such, the proposed designation of critical habitat is not expected to significantly affect energy supplies, distribution, or use and a Statement of Energy Effects is required.

Unfunded Mandates Reform Act (2 U.S.C. 1501 et seq.)

In accordance with the Unfunded Mandates Reform Act (2 U.S.C. 1501), the Service makes the following findings:

(a) This rule will not produce a Federal mandate. In general, a Federal mandate is a provision in legislation, statute, or regulation that would impose an enforceable duty upon State, local, or Tribal governments, or the private sector, and includes both “Federal intergovernmental mandates” and “Federal private sector mandates.” These terms are defined in 2 U.S.C. 658(5)-(7). “Federal intergovernmental mandate” includes a regulation that “would impose an enforceable duty upon State, local, or tribal governments,” with two exceptions. It excludes “a condition of federal assistance.” It also excludes “a duty arising from participation in a voluntary Federal program,” unless the regulation “relates to a then-existing Federal program under which $500,000,000 or more is provided annually to State, local, and tribal governments under entitlement authority,” if the provision would “increase the stringency of conditions of assistance” or “place caps upon, or otherwise decrease, the Federal Government's responsibility to provide funding” and the State, local, or tribal governments “lack authority” to adjust accordingly. At the time of enactment, these entitlement programs were: Medicaid; Aid to Families with Dependent Children work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance; or (ii) a duty arising from participation in a voluntary Federal program.”

The designation of critical habitat does not impose a legally binding duty on non-Federal government entities or private parties. Under the Act, the only regulatory effect is that Federal agencies must ensure that their actions do not destroy or adversely modify critical habitat under section 7. Non-Federal entities that receive Federal funding, assistance, permits, or otherwise require approval or authorization from a Federal agency for an action, may be indirectly impacted by the designation of critical habitat. However, the legally binding duty to avoid destruction or adverse modification of critical habitat rests squarely on the Federal agency. Furthermore, to the extent that non-Federal entities are indirectly impacted because they receive Federal assistance or participate in a voluntary Federal aid program, the Unfunded Mandates Reform Act would not apply; nor would critical habitat shift the costs of the large entitlement programs listed above onto State governments.

(b) As discussed in the draft economic analysis of the proposed designation of critical habitat for the guajón, the impacts on nonprofits and small governments are expected to be negligible. It is likely that small governments involved with developments and infrastructure projects will be interested parties or involved with projects involving section 7 consultations for the guajón within their jurisdictional areas. Any costs associated with this activity are likely to represent a small portion of a local government's budget. Consequently, we do not believe that the designation of critical habitat for this species will significantly or uniquely affect these small governmental entities. As such, a Small Government Agency Plan is not required.

Takings (E.O. 12630)

In accordance with E.O. 12630 (“Government Actions and Interference with Constitutionally Protected Private Property Rights”), we have analyzed the potential takings implications of designating 260.6 ac (105.6 ha) of lands in the municipalities of Humacao, Juncos, Las Piedras, Maunabo, Patillas, San Lorenzo, and Yabucoa, Puerto Rico as critical habitat for the guajón. Critical habitat designation does not affect landowner actions that do not require Federal funding or permits, nor does it preclude development of habitat conservation programs or issuance of incidental take permits to permit actions that do require Federal funding or permits to go forward. In conclusion, the designation of critical habitat for this species does not pose significant takings implications.

Federalism (E.O. 13132)

In accordance with E.O. 13132 (Federalism), the rule does not have significant Federalism effects. A Federalism assessment is not required. In keeping with the Department of the Interior and Department of Commerce policy, we requested information from, and coordinated development of, this final critical habitat designation with appropriate Commonwealth resource agencies in Puerto Rico. The designation of critical habitat in areas currently occupied by guajón may impose some additional regulatory restrictions to those currently in place and, therefore, may have little incremental impact on Commonwealth and local governments and their activities. The designation may have some benefit to these governments in that the areas that contain the features essential to the conservation of the species are more clearly defined, and the primary constituent elements of the habitat necessary to the conservation of the species are specifically identified. While making this definition and identification does not alter where and what federally sponsored activities may occur, it may assist these local governments in long-range planning (rather than waiting for case-by-case section 7 consultations to occur).

Civil Justice Reform

In accordance with Executive Order 12988 (Civil Justice Reform), the Office of the Solicitor has determined that the rule does not unduly burden the judicial system and meets the requirements of sections 3(a) and 3(b)(2) of the Order. We are designating critical habitat in accordance with the provisions of the Endangered Species Act. This final rule uses standard property descriptions and identifies the primary constituent elements within the designated areas to assist the public in understanding the habitat needs of the guajón.

Paperwork Reduction Act of 1995 (44 U.S.C. 3501 et seq.)

This rule does not contain any new collections of information that require approval by OMB under the Paperwork Reduction Act. This rule will not impose recordkeeping or reporting requirements on Commonwealth or local governments, individuals, businesses, or organizations. An agency may not conduct or sponsor, and a person is not required to respond to, a collection of information unless it displays a currently valid OMB control number.

National Environmental Policy Act

It is our position that, outside the jurisdiction of the Tenth Federal Circuit, we do not need to prepare environmental analyses as defined by NEPA in connection with designating critical habitat under the Endangered Species Act of 1973, as amended. We published a notice outlining our reasons for this determination in the Federal Register on October 25, 1983 (48 FR 49244). This assertion was upheld in the courts of the Ninth Circuit (Douglas County v. Babbitt, 48 F.3d 1495 (9th Cir. Ore. 1995), cert. denied 516 S. Ct. 1042 (1996)).

Government-to-Government Relationship With Tribes

In accordance with the President's memorandum of April 29, 1994, “Government-to-Government Relations with Native American Tribal Governments” (59 FR 22951), Executive Order 13175, and the Department of Interior's manual at 512 DM 2, we readily acknowledge our responsibility to communicate meaningfully with recognized Federal Tribes on a government-to-government basis. We have determined that there are no Tribal lands occupied at the time of listing that contain the features essential for the conservation and no Tribal lands that are unoccupied areas that are essential for the conservation of the guajón. Therefore, designation of critical habitat for the guajón has not been designated on Tribal lands.

References Cited

A complete list of all references cited in this rulemaking is available upon request from Jorge Saliva, Boquerón Field Office (see ADDRESSES).

Author(s)

The primary author of this package is the Boquerón Fish and Wildlife Office.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.11(h), revise the entry for “guajón” under “AMPHIBIANS” in the List of Endangered and Threatened Wildlife to read as follows:

§ 17.11 Endangered and threatened wildlife.

* * * * *

(h) * * *

Species: Common name | Species: Scientific name | Historic range | Vertebrate population where endangered or threatened | Status | When listed | Critical habitat | Special rule
* * * * * * *
AMPHIBIANS
* * * * * * *
Guajón | Eleutherodactylus cooki | U.S.A. (PR) | Entire | T | 617 | 17.95(d) | NA
* * * * * * *

3. In § 17.95, amend paragraph (d) by adding an entry for “Guajón (Eleutherodactylus cooki)” in the same order that the species appears in the table at § 17.11(h) to read as follows:

§ 17.95 Critical habitat—fish and wildlife.

* * * * *

(d) Amphibians.

* * * * *

Guajón (Eleutherodactylus cooki)

(1) Critical habitat units are depicted for Humacao, Las Piedras, Maunabo, Patillas, and Yabucoa, Puerto Rico, on the maps below.

(2) The primary constituent elements of critical habitat for the guajón are the habitat components that provide:

(i) Subtropical forest (which may include trees such as Cecropia schreberiana, Dendropanax arboreus, Guarea guidonia, Piper aduncum, Spathodea campanulata, Syzygium jambos, and Thespesia populnea) at elevations from 118 to 1,183 ft (36 to 361 m) above sea level;

(ii) Plutonic, granitic, or sedimentary rocks/boulders that form caves, crevices, and grottoes (interstitial spaces) in a streambed, and that are in proximity, or connected, to a permanent, ephemeral, or subterranean clear-water stream or water source. The interstitial spaces between or underneath rocks provide microenvironments characterized by generally higher humidity and cooler temperatures than outside the rock formations; and

(iii) Vegetation-covered rocks (the vegetation typically includes moss, ferns, and hepatics such as Thuidium urceolatum, Taxilejeunea sulphurea, and Huokeria acutifolia) extending laterally to a maximum of 99 feet (30 meters) on each bank of the stream. These rocks provide cover and foraging sites and help conserve humidity.

(3) Critical habitat does not include manmade structures existing on the effective date of this rule and not containing one or more of the primary constituent elements, such as buildings, driveways, aqueducts, airports, and roads, and the land on which such structures are located.

(4) Critical habitat maps. Data layers defining map units were created by delineating habitats that contain at least one or more of the PCEs defined in paragraph (2) of this entry, over United States Geological Survey topographic maps (UTM 19, NAD 83). USGS 1:20,000 quadrangles used in the base map were: Humacao, Punta Guayanés, Juncos, Yabucoa, Punta Tuna, and Patillas.

(5) Note: Index map (Map 1) follows:

BILLING CODE 4310-55-P

BILLING CODE 4310-55-C

(6) Unit 1: Mariana, Humacao, Puerto Rico.

(i) General Description: Unit 1 consists of approximately 23.6 acres (ac) (9.6 hectares (ha)) located south of Road PR-909, west of Road PR-3, and north of Quebrada Cataño within Mariana Ward, Humacao.

(ii) Coordinates: From Humacao and Punta Guayanés USGS 1:20,000 quadrangle maps. Unit 1 bounded by the following UTM 19 NAD 83 coordinates (E, N):

833916.64, 2007339.77; 833916.67, 2007341.73; 833916.83, 2007343.69; 833917.12, 2007345.64; 833917.53, 2007347.56; 833918.07, 2007349.45; 833918.73, 2007351.30; 833919.51, 2007353.10; 833920.41, 2007354.85; 833921.42, 2007356.54; 833922.53, 2007358.15; 833923.65, 2007359.57; 833989.83, 2007438.54; 833989.93, 2007438.66; 833991.25, 2007440.12; 833992.66, 2007441.48; 833994.16, 2007442.76; 833995.73, 2007443.93; 833997.38, 2007444.99; 833999.10, 2007445.95; 834000.88, 2007446.79; 834002.70, 2007447.51; 834004.57, 2007448.12; 834006.48, 2007448.60; 834008.41, 2007448.95; 834010.36, 2007449.18; 834012.33, 2007449.27; 834014.29, 2007449.24; 834016.25, 2007449.08; 834018.19, 2007448.80; 834020.12, 2007448.38; 834022.01, 2007447.85; 834023.86, 2007447.19; 834025.66, 2007446.41; 834027.41, 2007445.51; 834029.10, 2007444.50; 834030.71, 2007443.38; 834032.25, 2007442.16; 834033.71, 2007440.84; 834035.08, 2007439.43; 834036.35, 2007437.94; 834037.52, 2007436.36; 834038.59, 2007434.71; 834039.54, 2007432.99; 834040.38, 2007431.21; 834041.11, 2007429.39; 834041.71, 2007427.52; 834042.19, 2007425.61; 834042.54, 2007423.68; 834042.77, 2007421.73; 834042.87, 2007419.76; 834042.84, 2007417.80; 834042.68, 2007415.84; 834042.39, 2007413.90; 834041.98, 2007411.98; 834041.44, 2007410.09; 834040.78, 2007408.23; 834040.00, 2007406.43; 834039.10, 2007404.68; 834038.09, 2007403.00; 834036.98, 2007401.38; 834035.86, 2007399.96; 833985.64, 2007340.04; 834043.84, 2007268.82; 834044.09, 2007268.50; 834045.27, 2007266.93; 834046.33, 2007265.28; 834047.29, 2007263.56; 834048.13, 2007261.78; 834048.85, 2007259.96; 834049.45, 2007258.09; 834049.93, 2007256.18; 834050.29, 2007254.25; 834050.51, 2007252.30; 834050.61, 2007250.33; 834050.58, 2007248.37; 834050.42, 2007246.41; 834050.14, 2007244.47; 834049.72, 2007242.54; 834049.18, 2007240.65; 834048.52, 2007238.80; 834048.09, 2007237.77; 834014.85, 2007161.84; 834040.05, 2007115.14; 834132.46, 2006989.50; 834205.56, 2006931.14; 834206.23, 2006930.59; 834207.20, 2006929.73; 834258.63, 2006882.21; 834374.13, 2006823.87; 834375.16, 2006823.33; 834376.84, 2006822.32; 834378.46, 2006821.20; 834380.00, 2006819.98; 834381.46, 2006818.67; 834382.83, 2006817.25; 834384.10, 2006815.76; 834385.27, 2006814.18; 834386.34, 2006812.53; 834387.29, 2006810.81; 834387.80, 2006809.77; 834412.77, 2006756.30; 834413.10, 2006755.56; 834413.82, 2006753.74; 834414.42, 2006751.87; 834414.90, 2006749.96; 834415.26, 2006748.03; 834415.48, 2006746.07; 834415.58, 2006744.11; 834415.55, 2006742.15; 834415.39, 2006740.19; 834415.10, 2006738.24; 834414.69, 2006736.32; 834414.15, 2006734.43; 834413.49, 2006732.58; 834412.71, 2006730.78; 834411.82, 2006729.03; 834410.92, 2006727.51; 834369.80, 2006662.68; 834367.07, 2006639.75; 834374.97, 2006627.50; 834375.47, 2006626.69; 834376.43, 2006624.98; 834377.27, 2006623.20; 834377.99, 2006621.37; 834378.59, 2006619.50; 834379.07, 2006617.60; 834379.43, 2006615.66; 834379.65, 2006613.71; 834379.75, 2006611.75; 834379.72, 2006609.78; 834379.56, 2006607.83; 834379.27, 2006605.88; 834378.86, 2006603.96; 834378.32, 2006602.07; 834377.66, 2006600.22; 834376.88, 2006598.42; 834375.98, 2006596.67; 834374.98, 2006594.98; 834373.86, 2006593.36; 834372.64, 2006591.82; 834371.32, 2006590.37; 834369.91, 2006589.00; 834368.41, 2006587.73; 834366.83, 2006586.56; 834365.82, 2006585.88; 834340.63, 2006569.89; 834334.43, 2006549.03; 834356.52, 2006506.35; 834356.55, 2006506.29; 834357.39, 2006504.51; 834358.12, 2006502.69; 834358.72, 2006500.82; 834358.92, 2006500.08; 834390.20, 2006379.42; 834390.48, 2006378.25; 834390.83, 2006376.32; 834391.06, 2006374.36; 834391.16, 2006372.40; 834391.13, 2006370.44; 834390.97, 2006368.48; 834390.68, 2006366.53; 834390.27, 2006364.61; 834390.01, 2006363.66; 834382.32, 2006336.64; 834382.03, 2006335.70; 834381.37, 2006333.85; 834380.59, 2006332.05; 834379.70, 2006330.30; 834378.69, 2006328.61; 834377.57, 2006327.00; 834376.35, 2006325.46; 834375.03, 2006324.00; 834373.62, 2006322.63; 834372.12, 2006321.36; 834370.54, 2006320.19; 834368.89, 2006319.12; 834367.18, 2006318.17; 834365.40, 2006317.32; 834363.57, 2006316.60; 834361.70, 2006316.00; 834359.80, 2006315.52; 834357.87, 2006315.17; 834357.87, 2006315.17; 834355.91, 2006314.94; 834353.95, 2006314.84; 834351.99, 2006314.87; 834351.36, 2006314.91; 834303.63, 2006318.22; 834285.72, 2006292.67; 834293.36, 2006231.63; 834293.49, 2006230.38; 834293.59, 2006228.41; 834293.56, 2006226.45; 834293.40, 2006224.49; 834293.12, 2006222.55; 834292.70, 2006220.62; 834292.16, 2006218.73; 834291.50, 2006216.88; 834290.72, 2006215.08; 834289.83, 2006213.33; 834288.82, 2006211.65; 834287.70, 2006210.03; 834286.48, 2006208.49; 834285.16, 2006207.03; 834283.75, 2006205.66; 834282.25, 2006204.39; 834280.68, 2006203.22; 834279.03, 2006202.15; 834277.31, 2006201.20; 834275.53, 2006200.36; 834273.71, 2006199.63; 834271.84, 2006199.03; 834269.93, 2006198.55; 834268.00, 2006198.20; 834266.05, 2006197.97; 834264.08, 2006197.87; 834262.12, 2006197.90; 834260.16, 2006198.06; 834258.22, 2006198.35; 834256.29, 2006198.76; 834254.40, 2006199.30; 834252.55, 2006199.96; 834250.75, 2006200.74; 834249.00, 2006201.64; 834247.31, 2006202.65; 834245.70, 2006203.76; 834244.16, 2006204.98; 834242.70, 2006206.30; 834241.33, 2006207.71; 834240.06, 2006209.21; 834238.89, 2006210.79; 834237.82, 2006212.44; 834236.87, 2006214.16; 834236.03, 2006215.93; 834235.30, 2006217.76; 834234.70, 2006219.63; 834234.22, 2006221.54; 834233.87, 2006223.47; 834233.77, 2006224.17; 834224.69, 2006296.70; 834224.56, 2006297.95; 834224.46, 2006299.92; 834224.49, 2006301.88; 834224.65, 2006303.84; 834224.65, 2006303.84; 834224.94, 2006305.78; 834225.35, 2006307.70; 834225.89, 2006309.59; 834226.55, 2006311.45; 834227.33, 2006313.25; 834228.22, 2006315.00, 834229.23, 2006316.68; 834229.23, 2006316.68; 834229.90, 2006317.67; 834264.20, 2006366.59; 834264.65, 2006367.22; 834265.87, 2006368.76; 834267.19, 2006370.22; 834268.60, 2006371.58; 834270.10, 2006372.86; 834271.68, 2006374.03; 834273.33, 2006375.09; 834275.05, 2006376.05; 834276.82, 2006376.89; 834278.65, 2006377.61; 834280.52, 2006378.22; 834282.42, 2006378.70; 834284.36, 2006379.05; 834286.31, 2006379.28; 834288.27, 2006379.37; 834290.24, 2006379.34; 834290.86, 2006379.31; 834328.87, 2006376.67; 834301.63, 2006481.74; 834275.52, 2006532.18; 834275.49, 2006532.24; 834274.65, 2006534.02; 834273.93, 2006535.85; 834273.33, 2006537.72; 834272.85, 2006539.62; 834272.49, 2006541.56; 834272.27, 2006543.51; 834272.17, 2006545.47; 834272.20, 2006547.43; 834272.36, 2006549.39; 834272.65, 2006551.34; 834273.06, 2006553.26; 834273.41, 2006554.54; 834286.26, 2006597.78; 834286.45, 2006598.39; 834287.11, 2006600.24; 834287.89, 2006602.04; 834288.79, 2006603.79; 834289.80, 2006605.47; 834290.91, 2006607.09; 834292.13, 2006608.63; 834293.45, 2006610.09; 834294.86, 2006611.46; 834296.36, 2006612.73; 834297.94, 2006613.90; 834298.95, 2006614.58; 834308.43, 2006620.59; 834308.43, 2006620.60; 834307.71, 2006622.43; 834307.10, 2006624.30; 834306.62, 2006626.21; 834306.27, 2006628.14; 834306.04, 2006630.09; 834305.95, 2006632.06; 834305.98, 2006634.02; 834306.14, 2006635.98; 834306.15, 2006636.12; 834310.97, 2006676.56; 834311.24, 2006678.36; 834311.66, 2006680.28; 834312.19, 2006682.17; 834312.85, 2006684.02; 834313.63, 2006685.82; 834314.53, 2006687.57; 834315.43, 2006689.09; 834351.39, 2006745.79; 834337.78, 2006774.95; 834227.80, 2006830.50; 834226.78, 2006831.04; 834225.09, 2006832.05; 834223.47, 2006833.17; 834221.93, 2006834.39; 834220.97, 2006835.25; 834167.24, 2006884.88; 834091.89, 2006945.04; 834091.21, 2006945.59; 834089.76, 2006946.91; 834088.39, 2006948.32; 834087.11, 2006949.82; 834086.43, 2006950.72; 833990.42, 2007081.24; 833989.94, 2007081.92; 833988.87, 2007083.58; 833988.19, 2007084.77; 833955.04, 2007146.21; 833954.76, 2007146.73; 833953.92, 2007148.50; 833953.20, 2007150.33; 833952.60, 2007152.20; 833952.12, 2007154.10; 833951.76, 2007156.04; 833951.54, 2007157.99; 833951.44, 2007159.95; 833951.47, 2007161.92; 833951.63, 2007163.88; 833951.92, 2007165.82; 833952.33, 2007167.74; 833952.87, 2007169.63; 833953.53, 2007171.48; 833953.96, 2007172.51; 833985.71, 2007245.04; 833923.41, 2007321.28; 833923.16, 2007321.60; 833921.99, 2007323.18; 833920.92, 2007324.83; 833919.97, 2007326.54; 833919.12, 2007328.32; 833918.40, 2007330.15; 833917.80, 2007332.02; 833917.32, 2007333.92; 833916.97, 2007335.85; 833916.74, 2007337.81; 833916.64, 2007339.77.

(iii) Note: Map of Unit 1 (Map 2) follows:

BILLING CODE 4310-55-P

BILLING CODE 4310-55-C

(7) Unit 2: Montones, Las Piedras, Puerto Rico.

(i) General Description: Unit 2 consists of approximately 31.1 ac (12.6 ha) along the headwaters of the Valenciano River at PR 917 Km 9.7, Montones Ward, Las Piedras.

(ii) Coordinates: From Juncos USGS 1:20,000 quadrangle map. Unit 2 bounded by the following UTM 19 NAD 83 coordinates (E, N):

825191.05, 2008735.38; 825191.08, 2008737.35; 825191.17, 2008738.56; 825197.07, 2008804.62; 825197.15, 2008805.37; 825197.43, 2008807.31; 825197.85, 2008809.23; 825198.39, 2008811.12; 825199.05, 2008812.97; 825199.83, 2008814.78; 825200.73, 2008816.52; 825201.74, 2008818.21; 825202.09, 2008818.75; 825237.76, 2008871.58; 825238.52, 2008872.65; 825239.74, 2008874.19; 825241.06, 2008875.65; 825242.47, 2008877.02; 825243.97, 2008878.29; 825245.55, 2008879.46; 825247.20, 2008880.53; 825248.91, 2008881.48; 825249.96, 2008881.99; 825516.70, 2009006.30; 825517.43, 2009006.63; 825519.26, 2009007.35; 825521.13, 2009007.95; 825523.03, 2009008.43; 825524.97, 2009008.78; 825526.92, 2009009.01; 825528.88, 2009009.11; 825530.85, 2009009.08; 825532.58, 2009008.94; 825607.77, 2009000.89; 825608.00, 2009000.86; 825609.94, 2009000.58; 825611.86, 2009000.16; 825613.75, 2008999.62; 825615.60, 2008998.96; 825617.41, 2008998.18; 825619.15, 2008997.28; 825619.44, 2008997.12; 825657.84, 2008975.25; 825735.16, 2008935.69; 825736.06, 2008935.21; 825737.74, 2008934.20; 825739.36, 2008933.08; 825740.90, 2008931.86; 825742.35, 2008930.54; 825742.41, 2008930.48; 825805.54, 2008869.09; 825875.41, 2008891.79; 825982.60, 2009016.88; 826011.34, 2009100.61; 826011.81, 2009101.89; 826012.60, 2009103.69; 826013.49, 2009105.44; 826014.50, 2009107.13; 826015.62, 2009108.74; 826015.93, 2009109.15; 826234.92, 2009394.34; 826235.83, 2009395.46; 826237.15, 2009396.92; 826238.56, 2009398.29; 826240.06, 2009399.56; 826241.64, 2009400.73; 826243.28, 2009401.79; 826332.44, 2009455.31; 826363.91, 2009522.58; 826363.96, 2009522.68; 826364.85, 2009524.43; 826365.86, 2009526.12; 826366.98, 2009527.74; 826368.20, 2009529.27; 826369.52, 2009530.73; 826370.93, 2009532.10; 826372.43, 2009533.37; 826374.01, 2009534.54; 826375.66, 2009535.61; 826377.38, 2009536.56; 826379.15, 2009537.40; 826380.92, 2009538.11; 826507.54, 2009583.75; 826584.65, 2009645.47; 826584.74, 2009645.54; 826586.31, 2009646.72; 826587.96, 2009647.78; 826589.68, 2009648.74; 826591.46, 2009649.58; 826593.28, 2009650.30; 826595.15, 2009650.90; 826597.06, 2009651.38; 826598.99, 2009651.73; 826600.95, 2009651.96; 826602.91, 2009652.05; 826604.87, 2009652.02; 826606.83, 2009651.86; 826608.78, 2009651.58; 826610.70, 2009651.16; 826612.59, 2009650.62; 826614.44, 2009649.96; 826616.24, 2009649.18; 826617.99, 2009648.28; 826619.67, 2009647.27; 826621.29, 2009646.16; 826622.83, 2009644.94; 826624.29, 2009643.62; 826625.65, 2009642.21; 826626.92, 2009640.71; 826628.10, 2009639.13; 826629.16, 2009637.48; 826630.12, 2009635.76; 826630.96, 2009633.99; 826631.68, 2009632.16; 826632.28, 2009630.29; 826632.76, 2009628.38; 826633.11, 2009626.45; 826633.34, 2009624.50; 826633.43, 2009622.53; 826633.40, 2009620.57; 826633.24, 2009618.61; 826632.96, 2009616.67; 826632.54, 2009614.75; 826632.00, 2009612.86; 826631.34, 2009611.01; 826630.56, 2009609.20; 826629.66, 2009607.46; 826628.65, 2009605.77; 826627.54, 2009604.15; 826626.32, 2009602.61; 826625.00, 2009601.16; 826623.59, 2009599.79; 826622.18, 2009598.59; 826541.17, 2009533.75; 826541.08, 2009533.68; 826539.51, 2009532.51; 826537.86, 2009531.45; 826536.14, 2009530.49; 826534.36, 2009529.65; 826532.59, 2009528.95; 826413.02, 2009485.84; 826382.96, 2009421.56; 826382.91, 2009421.45; 826382.01, 2009419.71; 826381.00, 2009418.02; 826379.88, 2009416.40; 826378.66, 2009414.86; 826377.34, 2009413.41; 826375.93, 2009412.04; 826374.43, 2009410.77; 826372.86, 2009409.60; 826371.21, 2009408.54; 826279.08, 2009353.24; 826066.55, 2009076.47; 826037.54, 2008991.95; 826037.07, 2008990.68; 826036.29, 2008988.88; 826035.39, 2008987.13; 826034.38, 2008985.44; 826033.26, 2008983.83; 826032.04, 2008982.29; 826031.94, 2008982.17; 825915.52, 2008846.30; 825914.31, 2008844.97; 825912.90, 2008843.60; 825911.40, 2008842.33; 825909.82, 2008841.16; 825908.17, 2008840.09; 825906.45, 2008839.14; 825904.68, 2008838.30; 825902.85, 2008837.57; 825902.00, 2008837.28; 825806.87, 2008806.38; 825805.85, 2008806.07; 825803.94, 2008805.59; 825802.01, 2008805.24; 825800.06, 2008805.01; 825798.10, 2008804.91; 825796.13, 2008804.95; 825794.17, 2008805.11; 825792.23, 2008805.39; 825790.31, 2008805.81; 825788.42, 2008806.35; 825786.57, 2008807.01; 825784.77, 2008807.79; 825783.02, 2008808.69; 825781.33, 2008809.69; 825779.72, 2008810.81; 825778.18, 2008812.03; 825776.72, 2008813.35; 825776.66, 2008813.41; 825703.78, 2008884.28; 825629.89, 2008922.09; 825628.99, 2008922.57; 825628.70, 2008922.73; 825595.16, 2008941.84; 825534.49, 2008948.34; 825282.87, 2008831.08; 825256.20, 2008791.56; 825251.43, 2008738.26; 825259.11, 2008707.57; 825284.21, 2008655.11; 825304.76, 2008631.14; 825305.48, 2008630.28; 825306.65, 2008628.70; 825307.71, 2008627.05; 825308.67, 2008625.33; 825309.51, 2008623.55; 825310.23, 2008621.73; 825310.83, 2008619.86; 825311.31, 2008617.95; 825311.66, 2008616.02; 825311.89, 2008614.06; 825311.99, 2008612.10; 825311.96, 2008610.14; 825311.80, 2008608.18; 825311.51, 2008606.24; 825311.09, 2008604.31; 825310.55, 2008602.43; 825309.89, 2008600.57; 825309.11, 2008598.77; 825308.22, 2008597.02; 825307.21, 2008595.34; 825306.09, 2008593.72; 825304.87, 2008592.18; 825303.55, 2008590.73; 825302.14, 2008589.36; 825300.64, 2008588.09; 825299.06, 2008586.92; 825297.41, 2008585.85; 825295.69, 2008584.90; 825293.92, 2008584.05; 825292.09, 2008583.33; 825290.22, 2008582.73; 825288.31, 2008582.25; 825286.38, 2008581.90; 825284.43, 2008581.67; 825282.47, 2008581.58; 825280.50, 2008581.61; 825278.54, 2008581.77; 825276.60, 2008582.06; 825274.68, 2008582.47; 825272.79, 2008583.01; 825270.94, 2008583.67; 825269.14, 2008584.45; 825267.39, 2008585.35; 825265.70, 2008586.36; 825264.09, 2008587.47; 825262.55, 2008588.70; 825261.09, 2008590.01; 825259.72, 2008591.43; 825259.17, 2008592.06; 825236.04, 2008619.04; 825235.32, 2008619.90; 825234.15, 2008621.48; 825233.09, 2008623.13; 825232.13, 2008624.85; 825231.75, 2008625.62; 825203.63, 2008684.38; 825203.17, 2008685.39; 825202.45, 2008687.22; 825201.84, 2008689.09; 825201.58, 2008690.06; 825191.94, 2008728.60; 825191.73, 2008729.54; 825191.37, 2008731.47; 825191.15, 2008733.42; 825191.05, 2008735.38.

(iii) Note: Map of Unit 2 (Map 3) follows:

BILLING CODE 4310-55-P

BILLING CODE 4310-55-C

(8) Unit 3: Tejas, Las Piedras, Puerto Rico.

(i) General Description: Unit 3 consists of approximately 5.2 ac (2.1 ha) between Road PR-905 to the east, Road PR-908 to the west, Road PR-9921 to the north, and Road PR-9904 to the south within Tejas Ward, Las Piedras.

(ii) Coordinates: From Yabucoa, Humacao, Juncos, and Punta Guayanés USGS 1:20,000 quadrangle maps. Unit 3 bounded by the following UTM 19 NAD 83 coordinates (E, N):

829623.13, 2007423.98; 829623.16, 2007425.95; 829623.32, 2007427.91; 829623.60, 2007429.85; 829624.02, 2007431.77; 829624.56, 2007433.66; 829625.22, 2007435.51; 829626.00, 2007437.32; 829626.90, 2007439.06; 829627.90, 2007440.75; 829629.02, 2007442.37; 829629.38, 2007442.84; 829643.74, 2007461.45; 829644.61, 2007462.52; 829645.93, 2007463.98; 829647.34, 2007465.35; 829648.84, 2007466.62; 829650.41, 2007467.79; 829652.06, 2007468.86; 829653.78, 2007469.81; 829654.23, 2007470.04; 829665.53, 2007475.61; 829666.85, 2007476.23; 829668.68, 2007476.95; 829670.55, 2007477.55; 829672.46, 2007478.03; 829674.39, 2007478.39; 829676.34, 2007478.61; 829678.31, 2007478.71; 829680.27, 2007478.68; 829682.23, 2007478.52; 829682.50, 2007478.49; 829698.24, 2007476.54; 829699.91, 2007476.28; 829701.83, 2007475.87; 829703.72, 2007475.33; 829705.57, 2007474.67; 829707.37, 2007473.89; 829709.12, 2007472.99; 829710.81, 2007471.98; 829712.42, 2007470.87; 829713.96, 2007469.65; 829715.42, 2007468.33; 829716.79, 2007466.92; 829718.06, 2007465.42; 829719.23, 2007463.84; 829720.30, 2007462.19; 829721.25, 2007460.47; 829722.09, 2007458.70; 829722.82, 2007456.87; 829723.42, 2007455.00; 829723.52, 2007454.66; 829736.51, 2007407.12; 829744.37, 2007381.77; 829781.75, 2007394.68; 829783.28, 2007395.17; 829785.19, 2007395.65; 829787.12, 2007396.00; 829789.08, 2007396.22; 829791.04, 2007396.32; 829791.73, 2007396.33; 829845.90, 2007396.00; 829847.17, 2007395.96; 829849.13, 2007395.80; 829849.83, 2007395.71; 829881.85, 2007391.29; 829883.10, 2007391.09; 829885.02, 2007390.67; 829886.91, 2007390.13; 829888.76, 2007389.47; 829890.56, 2007388.69; 829892.31, 2007387.80; 829894.00, 2007386.79; 829895.61, 2007385.67; 829897.15, 2007384.45; 829898.61, 2007383.13; 829899.98, 2007381.72; 829901.25, 2007380.22; 829902.42, 2007378.64; 829903.49, 2007376.99; 829904.44, 2007375.28; 829905.28, 2007373.50; 829906.01, 2007371.67; 829906.61, 2007369.80; 829907.09, 2007367.90; 829907.44, 2007365.96; 829907.67, 2007364.01; 829907.76, 2007362.05; 829907.73, 2007360.08; 829907.57, 2007358.13; 829907.28, 2007356.18; 829906.87, 2007354.26; 829906.33, 2007352.37; 829905.67, 2007350.52; 829904.89, 2007348.72; 829903.99, 2007346.97; 829902.99, 2007345.28; 829901.87, 2007343.67; 829900.65, 2007342.13; 829899.33, 2007340.67; 829897.92, 2007339.30; 829896.42, 2007338.03; 829894.84, 2007336.86; 829893.19, 2007335.79; 829891.47, 2007334.84; 829889.70, 2007334.00; 829887.87, 2007333.27; 829886.00, 2007332.67; 829884.09, 2007332.19; 829882.16, 2007331.84; 829880.21, 2007331.61; 829878.25, 2007331.52; 829876.28, 2007331.55; 829874.32, 2007331.71; 829873.62, 2007331.80; 829843.56, 2007335.95; 829796.50, 2007336.24; 829750.67, 2007320.42; 829749.14, 2007319.93; 829747.23, 2007319.45; 829745.30, 2007319.10; 829743.34, 2007318.87; 829741.38, 2007318.78; 829739.42, 2007318.81; 829737.46, 2007318.97; 829735.51, 2007319.25; 829733.59, 2007319.67; 829731.70, 2007320.21; 829729.98, 2007320.82; 829709.83, 2007328.66; 829709.70, 2007328.71; 829707.90, 2007329.49; 829706.15, 2007330.39; 829704.46, 2007331.40; 829702.85, 2007332.51; 829701.31, 2007333.73; 829699.85, 2007335.05; 829698.48, 2007336.46; 829697.21, 2007337.96; 829696.04, 2007339.54; 829694.98, 2007341.19; 829694.02, 2007342.91; 829693.18, 2007344.68; 829692.46, 2007346.51; 829692.04, 2007347.75; 829679.00, 2007389.82; 829678.81, 2007390.45; 829678.71, 2007390.79; 829675.10, 2007404.00; 829674.74, 2007403.62 829673.33, 2007402.26; 829671.83, 2007400.98; 829670.25, 2007399.81; 829668.60, 2007398.75; 829666.89, 2007397.79; 829665.11, 2007396.95; 829663.28, 2007396.23; 829661.41, 2007395.62; 829659.51, 2007395.15; 829657.57, 2007394.79; 829655.62, 2007394.57; 829653.66, 2007394.47; 829651.69, 2007394.50; 829649.74, 2007394.66; 829647.79, 2007394.95; 829645.87, 2007395.36; 829643.98, 2007395.90; 829642.13, 2007396.56; 829640.33, 2007397.34; 829638.58, 2007398.24; 829636.89, 2007399.25; 829635.28, 2007400.36; 829633.74, 2007401.58; 829632.28, 2007402.90; 829630.91, 2007404.31; 829629.64, 2007405.81; 829628.47, 2007407.39; 829627.40, 2007409.04; 829626.45, 2007410.76; 829625.61, 2007412.53; 829624.88, 2007414.36; 829624.28, 2007416.23; 829623.80, 2007418.14; 829623.45, 2007420.07; 829623.22, 2007422.02; 829623.13, 2007423.98.

(iii) Note: Map of Unit 3 (Map 4) follows:

BILLING CODE 4310-55-P

BILLING CODE 4310-55-C

(9) Unit 4: Emajagua, Maunabo, Puerto Rico.

(i) General Description: Unit 4 consists of approximately 33.0 ac (13.4 ha) between Quebrada Arenas and Quebrada Emajagua, north of Road PR-901 within Emajagua Ward, Maunabo.

(ii) Coordinates: From Yabucoa and Punta Guayanés USGS 1:20,000 quadrangle maps. Unit 4 bounded by the following UTM 19 NAD 83 coordinates (E, N):

830301.03, 1993842.17; 830301.06, 1993844.14; 830301.22, 1993846.10; 830301.51, 1993848.04; 830301.93, 1993849.96; 830302.46, 1993851.85; 830303.12, 1993853.70; 830303.91, 1993855.50; 830304.80, 1993857.25; 830305.10, 1993857.77; 830382.85, 1993991.51; 830383.56, 1993992.68; 830384.68, 1993994.30; 830385.90, 1993995.83; 830387.22, 1993997.29; 830388.63, 1993998.66; 830389.55, 1993999.46; 830491.53, 1994084.69; 830602.31, 1994239.62; 830670.30, 1994401.70; 830645.67, 1994534.02; 830645.49, 1994535.09; 830645.27, 1994537.04; 830645.17, 1994539.01; 830645.20, 1994540.97; 830645.36, 1994542.93; 830645.65, 1994544.87; 830646.06, 1994546.79; 830646.60, 1994548.68; 830647.26, 1994550.53; 830648.04, 1994552.34; 830648.94, 1994554.09; 830649.02, 1994554.22; 830603.53, 1994664.55; 830603.03, 1994665.86; 830602.43, 1994667.73; 830601.95, 1994669.64; 830601.59, 1994671.57; 830601.37, 1994673.52; 830601.27, 1994675.49; 830601.30, 1994677.45; 830601.46, 1994679.41; 830601.75, 1994681.35; 830602.16, 1994683.28; 830602.70, 1994685.17; 830603.36, 1994687.02; 830604.14, 1994688.82; 830605.04, 1994690.57; 830606.05, 1994692.25; 830607.17, 1994693.87; 830608.39, 1994695.41; 830609.71, 1994696.87; 830611.12, 1994698.23; 830612.62, 1994699.51; 830614.19, 1994700.68; 830615.84, 1994701.74; 830617.56, 1994702.70; 830619.34, 1994703.54; 830621.17, 1994704.26; 830623.04, 1994704.86; 830624.94, 1994705.34; 830626.87, 1994705.70; 830628.83, 1994705.92; 830630.79, 1994706.02; 830632.75, 1994705.99; 830634.71, 1994705.83; 830636.66, 1994705.54; 830638.58, 1994705.13; 830640.47, 1994704.59; 830642.32, 1994703.93; 830644.12, 1994703.15; 830645.87, 1994702.25; 830647.56, 1994701.24; 830649.17, 1994700.12; 830650.71, 1994698.90; 830652.17, 1994697.58; 830653.54, 1994696.17; 830654.81, 1994694.67; 830655.98, 1994693.10; 830657.04, 1994691.45; 830658.00, 1994689.73; 830658.84, 1994687.95; 830659.06, 1994687.44; 830706.46, 1994572.47; 830780.50, 1994437.89; 830780.89, 1994437.15; 830781.73, 1994435.37; 830782.46, 1994433.55; 830783.06, 1994431.68; 830783.54, 1994429.77; 830783.89, 1994427.84; 830784.12, 1994425.89; 830784.19, 1994424.69; 830784.37, 1994420.55; 830925.97, 1994319.54; 830926.41, 1994319.23; 830927.95, 1994318.00; 830929.40, 1994316.69; 830929.47, 1994316.62; 830981.02, 1994266.48; 830982.32, 1994265.13; 830983.59, 1994263.63; 830984.76, 1994262.06; 830985.83, 1994260.41; 830986.78, 1994258.69; 830987.63, 1994256.91; 830987.69, 1994256.77; 831019.16, 1994183.23; 831048.99, 1994127.46; 831110.90, 1994086.77; 831152.31, 1994063.55; 831153.89, 1994062.60; 831155.51, 1994061.48; 831157.05, 1994060.26; 831158.50, 1994058.94; 831159.87, 1994057.53; 831161.14, 1994056.03; 831162.31, 1994054.46; 831163.38, 1994052.81; 831164.33, 1994051.09; 831165.17, 1994049.31; 831165.90, 1994047.48; 831166.50, 1994045.61; 831166.98, 1994043.71; 831167.33, 1994041.78; 831167.56, 1994039.82; 831167.65, 1994037.86; 831167.62, 1994035.90; 831167.46, 1994033.94; 831167.18, 1994031.99; 831166.76, 1994030.07; 831166.22, 1994028.18; 831165.56, 1994026.33; 831164.78, 1994024.53; 831163.88, 1994022.78; 831162.88, 1994021.10; 831161.76, 1994019.48; 831160.54, 1994017.94; 831159.22, 1994016.48; 831157.81, 1994015.11; 831156.31, 1994013.84; 831154.73, 1994012.67; 831153.08, 1994011.61; 831151.36, 1994010.65; 831149.59, 1994009.81; 831147.76, 1994009.09; 831145.89, 1994008.48; 831143.98, 1994008.01; 831142.05, 1994007.65; 831140.10, 1994007.43; 831138.14, 1994007.33; 831136.17, 1994007.36; 831134.21, 1994007.52; 831132.27, 1994007.81; 831130.35, 1994008.22; 831128.46, 1994008.76; 831126.61, 1994009.42; 831124.80, 1994010.20; 831123.06, 1994011.10; 831122.95, 1994011.16; 831080.61, 1994034.90; 831079.03, 1994035.85; 831078.79, 1994036.00; 831009.62, 1994081.48; 831008.24, 1994082.44; 831006.70, 1994083.66; 831005.24, 1994084.98; 831003.88, 1994086.39; 831002.61, 1994087.89; 831001.43, 1994089.47; 831000.37, 1994091.12; 830999.64, 1994092.40; 830965.59, 1994156.06; 830965.37, 1994156.49; 830964.52, 1994158.26; 830964.46, 1994158.40; 830934.84, 1994227.62; 830889.23, 1994271.98; 830787.46, 1994344.57; 830787.30, 1994342.66; 830787.30, 1994342.64; 830780.27, 1994281.48; 830832.47, 1994149.96; 830832.83, 1994149.01; 830833.43, 1994147.14; 830833.91, 1994145.24; 830834.26, 1994143.30; 830834.49, 1994141.35; 830834.58, 1994139.39; 830834.55, 1994137.42; 830834.52, 1994136.87; 830829.02, 1994054.98; 830828.89, 1994053.58; 830828.60, 1994051.63; 830828.19, 1994049.71; 830827.65, 1994047.82; 830826.99, 1994045.97; 830826.21, 1994044.17; 830825.31, 1994042.42; 830824.30, 1994040.73; 830823.19, 1994039.12; 830822.35, 1994038.04; 830736.17, 1993932.11; 830714.39, 1993876.45; 830714.36, 1993876.37; 830713.58, 1993874.57; 830712.68, 1993872.82; 830711.67, 1993871.13; 830710.55, 1993869.52; 830709.33, 1993867.98; 830708.01, 1993866.52; 830706.60, 1993865.15; 830705.11, 1993863.88; 830703.53, 1993862.71; 830701.88, 1993861.64; 830700.16, 1993860.69; 830698.38, 1993859.85; 830696.56, 1993859.12; 830694.69, 1993858.52; 830692.78, 1993858.04; 830690.85, 1993857.69; 830688.90, 1993857.47; 830686.93, 1993857.37; 830684.97, 1993857.40; 830683.01, 1993857.56; 830681.07, 1993857.85; 830679.14, 1993858.26; 830677.26, 1993858.80; 830675.40, 1993859.46; 830673.60, 1993860.24; 830671.85, 1993861.14; 830670.17, 1993862.15; 830668.55, 1993863.26; 830667.01, 1993864.49; 830665.55, 1993865.80; 830664.19, 1993867.22; 830662.91, 1993868.71; 830661.74, 1993870.29; 830660.68, 1993871.94; 830659.72, 1993873.66; 830658.88, 1993875.43; 830658.16, 1993877.26; 830657.56, 1993879.13; 830657.08, 1993881.04; 830656.72, 1993882.97; 830656.50, 1993884.92; 830656.40, 1993886.89; 830656.43, 1993888.85; 830656.59, 1993890.81; 830656.88, 1993892.75; 830657.29, 1993894.67; 830657.83, 1993896.56; 830658.46, 1993898.34; 830681.96, 1993958.36; 830681.99, 1993958.44; 830682.77, 1993960.24; 830683.66, 1993961.99; 830684.67, 1993963.68; 830685.79, 1993965.29; 830686.62, 1993966.37; 830769.74, 1994068.54; 830774.14, 1994134.12; 830721.67, 1994266.34; 830721.31, 1994267.29; 830720.71, 1994269.16; 830720.23, 1994271.07; 830719.88, 1994273.00; 830719.65, 1994274.95; 830719.55, 1994276.91; 830719.58, 1994278.88; 830719.74, 1994280.84; 830719.74, 1994280.85; 830727.37, 1994347.16; 830726.01, 1994379.24; 830656.38, 1994213.28; 830655.84, 1994212.07; 830654.95, 1994210.32; 830653.94, 1994208.63; 830653.12, 1994207.43; 830538.15, 1994046.64; 830537.86, 1994046.23; 830536.63, 1994044.69; 830535.32, 1994043.23; 830533.90, 1994041.86; 830532.98, 1994041.06; 830432.11, 1993956.76; 830357.02, 1993827.59; 830356.30, 1993826.42; 830355.19, 1993824.80; 830353.96, 1993823.26; 830352.65, 1993821.81; 830351.23, 1993820.44; 830349.74, 1993819.17; 830348.16, 1993818.00; 830346.51, 1993816.93; 830344.79, 1993815.97; 830343.02, 1993815.13; 830341.19, 1993814.41; 830339.32, 1993813.81; 830337.41, 1993813.33; 830335.48, 1993812.98; 830333.53, 1993812.75; 830331.56, 1993812.65; 830329.60, 1993812.69; 830327.64, 1993812.84; 830325.70, 1993813.13; 830323.78, 1993813.55; 830321.89, 1993814.08; 830320.04, 1993814.75; 830318.23, 1993815.53; 830316.48, 1993816.42; 830314.80, 1993817.43; 830313.18, 1993818.55; 830311.64, 1993819.77; 830310.19, 1993821.09; 830308.82, 1993822.50; 830307.55, 1993824.00; 830306.37, 1993825.58; 830305.31, 1993827.23; 830304.35, 1993828.94; 830303.51, 1993830.72; 830302.79, 1993832.55; 830302.19, 1993834.42; 830301.71, 1993836.32; 830301.36, 1993838.26; 830301.13, 1993840.21; 830301.03, 1993842.17.

(iii) Note: Map of Unit 4 (Map 5) follows:

BILLING CODE 4310-55-P

BILLING CODE 4310-55-C

(10) Unit 5: Jacaboa, Patillas, Puerto Rico.

(i) General Description: Unit 5 consists of approximately 10.3 ac (4.2 ha) northwest of road PR-758 within Ríos Ward, Patillas.

(ii) Coordinates: From Yabucoa and Punta Tuna USGS 1:20,000 quadrangle maps. Unit 5 bounded by the following UTM 19 NAD 83 coordinates (E, N):

820101.76, 1993627.91; 820101.80, 1993629.87; 820101.96, 1993631.83; 820102.25, 1993633.77; 820102.66, 1993635.69; 820103.20, 1993637.58; 820103.86, 1993639.43; 820104.64, 1993641.24; 820105.54, 1993642.98; 820106.55, 1993644.67; 820107.67, 1993646.28; 820108.89, 1993647.82; 820110.21, 1993649.28; 820111.62, 1993650.65; 820113.12, 1993651.92; 820114.70, 1993653.09; 820116.35, 1993654.15; 820118.07, 1993655.11; 820119.84, 1993655.95; 820121.67, 1993656.67; 820123.54, 1993657.27; 820125.45, 1993657.75; 820127.38, 1993658.10; 820129.33, 1993658.32; 820131.30, 1993658.42; 820133.26, 1993658.39; 820135.22, 1993658.23; 820137.16, 1993657.94; 820139.08, 1993657.52; 820140.97, 1993656.98; 820142.82, 1993656.32; 820144.62, 1993655.54; 820146.37, 1993654.64; 820148.06, 1993653.63; 820149.67, 1993652.51; 820149.79, 1993652.43; 820252.55, 1993575.46; 820252.92, 1993575.18; 820351.83, 1993498.67; 820380.40, 1993494.03; 820380.96, 1993493.93; 820382.88, 1993493.52; 820384.77, 1993492.98; 820386.62, 1993492.32; 820388.43, 1993491.53; 820390.17, 1993490.64; 820391.86, 1993489.63; 820393.47, 1993488.51; 820395.01, 1993487.29; 820396.47, 1993485.97; 820397.77, 1993484.63; 820514.21, 1993356.97; 820592.94, 1993297.68; 820655.33, 1993281.06; 820656.79, 1993280.63; 820658.64, 1993279.97; 820660.44, 1993279.19; 820662.19, 1993278.29; 820663.87, 1993277.28; 820665.49, 1993276.16; 820667.03, 1993274.94; 820668.48, 1993273.62; 820669.85, 1993272.21; 820671.12, 1993270.71; 820672.29, 1993269.13; 820673.36, 1993267.48; 820674.31, 1993265.76; 820675.15, 1993263.99; 820675.87, 1993262.16; 820676.47, 1993260.29; 820676.95, 1993258.38; 820677.30, 1993256.45; 820677.53, 1993254.50; 820677.62, 1993252.54; 820677.59, 1993250.57; 820677.43, 1993248.61; 820677.14, 1993246.67; 820676.73, 1993244.75; 820676.19, 1993242.86; 820675.53, 1993241.01; 820674.74, 1993239.21; 820673.85, 1993237.46; 820672.84, 1993235.77; 820671.72, 1993234.16; 820670.50, 1993232.62; 820669.18, 1993231.16; 820667.76, 1993229.80; 820666.27, 1993228.53; 820664.69, 1993227.36; 820663.04, 1993226.29; 820661.32, 1993225.34; 820659.54, 1993224.50; 820657.72, 1993223.77; 820655.84, 1993223.17; 820653.94, 1993222.70; 820652.01, 1993222.34; 820650.05, 1993222.12; 820648.09, 1993222.02; 820646.13, 1993222.06; 820644.17, 1993222.22; 820642.22, 1993222.50; 820640.30, 1993222.92; 820639.87, 1993223.03; 820571.82, 1993241.16; 820570.37, 1993241.59; 820568.52, 1993242.25; 820566.71, 1993243.03; 820564.97, 1993243.93; 820563.28, 1993244.94; 820561.66, 1993246.06; 820561.49, 1993246.19; 820475.85, 1993310.68; 820474.48, 1993311.77; 820473.03, 1993313.09; 820471.73, 1993314.43; 820360.45, 1993436.43; 820334.68, 1993440.61; 820334.11, 1993440.71; 820332.19, 1993441.12; 820330.30, 1993441.66; 820328.45, 1993442.32; 820326.65, 1993443.11; 820324.90, 1993444.00; 820323.22, 1993445.01; 820321.60, 1993446.13; 820321.12, 1993446.50; 820216.36, 1993527.53; 820113.79, 1993604.37; 820112.36, 1993605.50; 820110.90, 1993606.82; 820109.54, 1993608.23; 820108.27, 1993609.73; 820107.10, 1993611.31; 820106.03, 1993612.96; 820105.08, 1993614.68; 820104.24, 1993616.46; 820103.52, 1993618.28; 820102.91, 1993620.15; 820102.44, 1993622.06; 820102.09, 1993623.99; 820101.86, 1993625.94; 820101.76, 1993627.91.

(iii) Note: Map of Unit 5 (Map 6) follows:

BILLING CODE 4310-55-P

BILLING CODE 4310-55-C

(11) Unit 6: Calabazas, Yabucoa, Puerto Rico.

(i) General Description: Unit 6 consists of approximately 13.8 ac (5.6 ha), including lands northeast of road PR-900, between Quebrada Guayabo to the south and Río Guayanés to the north, and south of Guayanés Unit, within Calabazas Ward, Yabucoa.

(ii) Coordinates: From Yabucoa USGS 1:20,000 quadrangle map. Unit 6 bounded by the following UTM 19 NAD 83 coordinates (E, N):

825303.81, 1999020.54; 825324.29, 1999071.68; 825361.95, 1999106.10; 825427.53, 1999113.37; 825493.52, 1999090.98; 825544.83, 1999057.79; 825546.92, 1999059.93; 825572.78, 1999028.51; 825577.55, 1998990.44; 825576.37, 1998922.62; 825547.19, 1998888.32; 825518.03, 1998851.89; 825465.30, 1998834.21; 825446.21, 1998836.06; 825416.29, 1998854.72; 825377.77, 1998881.73; 825354.21, 1998900.47; 825325.99, 1998948.81; 825303.81, 1999020.54.

(iii) Note: The map depicting Unit 6 is provided at paragraph (12)(iii) of this entry.

(12) Unit 7: Guayanés, Yabucoa, Puerto Rico.

(i) General Description: Unit 7 consists of approximately 7.9 ac (3.2 ha) northeast of Road PR-900 between Quebrada Guayabo to the south and Río Guayanés to the north, and north of Unit 6, within Calabazas Ward, Yabucoa.

(ii) Coordinates: From Yabucoa USGS 1:20,000 quadrangle map. Unit 7 bounded by the following UTM 19 NAD 83 coordinates (E, N):

825269.89, 1999257.75; 825269.92, 1999259.72; 825270.08, 1999261.68; 825270.37, 1999263.62; 825270.78, 1999265.54; 825271.32, 1999267.43; 825271.98, 1999269.28; 825272.76, 1999271.09; 825273.66, 1999272.83; 825274.67, 1999274.52; 825275.79, 1999276.13; 825277.01, 1999277.67; 825278.33, 1999279.13; 825279.74, 1999280.50; 825281.24, 1999281.77; 825282.82, 1999282.94; 825284.47, 1999284.01; 825286.19, 1999284.96; 825287.96, 1999285.80; 825289.79, 1999286.52; 825291.66, 1999287.13; 825293.57, 1999287.60; 825295.50, 1999287.96; 825297.45, 1999288.18; 825299.41, 1999288.28; 825301.38, 1999288.25; 825303.34, 1999288.09; 825305.28, 1999287.80; 825307.20, 1999287.38; 825309.09, 1999286.85; 825310.94, 1999286.18; 825312.74, 1999285.40; 825314.49, 1999284.51; 825316.18, 1999283.50; 825316.22, 1999283.47; 825459.03, 1999191.10; 825625.66, 1999156.49; 825626.84, 1999156.22; 825628.73, 1999155.68; 825629.63, 1999155.37; 825721.19, 1999122.74; 825722.14, 1999122.38; 825723.95, 1999121.60; 825725.69, 1999120.71; 825727.38, 1999119.70; 825728.99, 1999118.58; 825729.55, 1999118.16; 825761.67, 1999093.18; 825762.66, 1999092.38; 825764.12, 1999091.06; 825765.49, 1999089.65; 825766.76, 1999088.15; 825767.93, 1999086.57; 825768.99, 1999084.92; 825769.95, 1999083.20; 825770.79, 1999081.43; 825771.51, 1999079.60; 825772.11, 1999077.73; 825772.59, 1999075.82; 825772.94, 1999073.89; 825773.17, 1999071.94; 825773.27, 1999069.98; 825773.23, 1999068.01; 825773.07, 1999066.05; 825772.79, 1999064.11; 825772.37, 1999062.19; 825771.83, 1999060.30; 825771.17, 1999058.45; 825770.39, 1999056.65; 825769.49, 1999054.90; 825768.48, 1999053.21; 825767.37, 1999051.60; 825766.15, 1999050.06; 825764.83, 1999048.60; 825763.41, 1999047.23; 825761.92, 1999045.96; 825760.34, 1999044.79; 825758.69, 1999043.72; 825756.97, 1999042.77; 825755.19, 1999041.93; 825753.37, 1999041.21; 825751.50, 1999040.60; 825749.59, 1999040.13; 825747.66, 1999039.77; 825745.71, 1999039.55; 825743.74, 1999039.45; 825741.78, 1999039.48; 825739.82, 1999039.64; 825737.88, 1999039.93; 825735.96, 1999040.35; 825734.07, 1999040.89; 825732.22, 1999041.55; 825730.41, 1999042.33; 825728.66, 1999043.22; 825726.98, 1999044.23; 825725.36, 1999045.35; 825724.81, 1999045.77; 825696.49, 1999067.79; 825611.42, 1999098.11; 825441.33, 1999133.44; 825440.15, 1999133.71; 825438.26, 1999134.25; 825436.41, 1999134.91; 825434.60, 1999135.69; 825432.86, 1999136.59; 825431.17, 1999137.60; 825431.13, 1999137.62; 825283.60, 1999233.04; 825282.03, 1999234.13; 825280.49, 1999235.35; 825279.04, 1999236.67; 825277.67, 1999238.08; 825276.40, 1999239.58; 825275.23, 1999241.16; 825274.16, 1999242.81; 825273.21, 1999244.53; 825272.37, 1999246.30; 825271.64, 1999248.13; 825271.04, 1999250.00; 825270.56, 1999251.91; 825270.21, 1999253.84; 825269.99, 1999255.79; 825269.89, 1999257.75.

(iii) Note: Map of Units 6 and 7 (Map 7) follows:

BILLING CODE 4310-55-P

BILLING CODE 4310-55-C

(13) Unit 8: Panduras, Yabucoa, Puerto Rico.

(i) General Description: Unit 8 consists of approximately 28.6 ac (11.6 ha) to the northwest and southeast of Road PR-3 within Calabazas Ward, Yabucoa, and 18.2 ac (7.4 ha) of lands owned by the Puerto Rico Conservation Trust near the top of Cerro La Pandura.

(ii) Coordinates: From Yabucoa USGS 1:20,000 quadrangle map. Unit 8 bounded by the following UTM 19 NAD 83 coordinates (E, N):

827566.07, 1997348.94; 827566.10, 1997350.90; 827566.26, 1997352.86; 827566.55, 1997354.81; 827566.96, 1997356.73; 827567.50, 1997358.62; 827568.16, 1997360.47; 827568.94, 1997362.27; 827569.84, 1997364.02; 827570.13, 1997364.53; 827611.88, 1997436.35; 827612.60, 1997437.52; 827613.72, 1997439.14; 827614.94, 1997440.68; 827616.26, 1997442.13; 827617.67, 1997443.50; 827619.16, 1997444.77; 827620.74, 1997445.94; 827622.39, 1997447.01; 827624.11, 1997447.96; 827625.89, 1997448.80; 827627.71, 1997449.53; 827629.58, 1997450.13; 827631.49, 1997450.61; 827633.42, 1997450.96; 827635.38, 1997451.18; 827637.34, 1997451.28; 827639.30, 1997451.25; 827641.26, 1997451.09; 827643.20, 1997450.80; 827645.13, 1997450.39; 827647.02, 1997449.85; 827648.87, 1997449.19; 827650.67, 1997448.41; 827652.42, 1997447.51; 827654.10, 1997446.50; 827655.72, 1997445.38; 827657.26, 1997444.16; 827658.72, 1997442.84; 827660.08, 1997441.43; 827661.35, 1997439.93; 827662.53, 1997438.36; 827663.59, 1997436.70; 827664.55, 1997434.99; 827665.39, 1997433.21; 827666.11, 1997431.38; 827666.71, 1997429.51; 827667.19, 1997427.61; 827667.54, 1997425.68; 827667.77, 1997423.72; 827667.86, 1997421.76; 827667.83, 1997419.80; 827667.67, 1997417.84; 827667.39, 1997415.89; 827666.97, 1997413.97; 827666.43, 1997412.08; 827665.77, 1997410.23; 827664.99, 1997408.43; 827664.09, 1997406.68; 827663.80, 1997406.17; 827627.55, 1997343.81; 827640.42, 1997269.96; 827711.77, 1997123.84; 827786.66, 1997042.73; 827883.73, 1996967.26; 827884.71, 1996966.46; 827886.17, 1996965.14; 827887.54, 1996963.73; 827888.44, 1996962.69; 827912.27, 1996933.87; 827952.33, 1996988.85; 827952.47, 1996989.05; 827953.69, 1996990.59; 827955.01, 1996992.05; 827956.43, 1996993.41; 827957.92, 1996994.69; 827959.50, 1996995.86; 827961.15, 1996996.92; 827962.87, 1996997.88; 827964.64, 1996998.72; 827966.47, 1996999.44; 827968.34, 1997000.04; 827968.39, 1997000.06; 828042.04, 1997020.99; 828043.90, 1997021.45; 828045.83, 1997021.80; 828047.79, 1997022.03; 828049.75, 1997022.12; 828051.71, 1997022.09; 828053.67, 1997021.93; 828055.62, 1997021.65; 828057.54, 1997021.23; 828059.35, 1997020.72; 828145.05, 1996993.46; 828145.12, 1996993.44; 828146.97, 1996992.78; 828148.78, 1996992.00; 828150.52, 1996991.10; 828152.21, 1996990.09; 828153.83, 1996988.97; 828155.37, 1996987.75; 828156.82, 1996986.43; 828158.19, 1996985.02; 828159.46, 1996983.52; 828160.63, 1996981.95; 828161.06, 1996981.32; 828201.73, 1996919.32; 828202.37, 1996918.29; 828203.33, 1996916.58; 828204.17, 1996914.80; 828204.82, 1996913.16; 828225.52, 1996856.56; 828225.58, 1996856.38; 828226.18, 1996854.51; 828226.66, 1996852.60; 828227.02, 1996850.67; 828227.24, 1996848.72; 828227.28, 1996848.25; 828230.87, 1996794.26; 828230.93, 1996792.77; 828230.90, 1996790.81; 828230.74, 1996788.85; 828230.45, 1996786.90; 828230.04, 1996784.98; 828229.50, 1996783.09; 828228.84, 1996781.24; 828228.06, 1996779.44; 828227.16, 1996777.69; 828226.15, 1996776.01; 828225.03, 1996774.39; 828223.81, 1996772.85; 828222.49, 1996771.39; 828221.16, 1996770.10; 828170.61, 1996723.90; 828170.53, 1996723.82; 828169.03, 1996722.55; 828167.45, 1996721.38; 828165.80, 1996720.31; 828164.09, 1996719.36; 828162.31, 1996718.52; 828162.31, 1996718.52; 828160.48, 1996717.80; 828158.61, 1996717.19; 828156.71, 1996716.72; 828154.77, 1996716.36; 828152.82, 1996716.14; 828150.86, 1996716.04; 828149.74, 1996716.04; 828067.24, 1996717.74; 828066.40, 1996717.77; 828064.44, 1996717.93; 828062.49, 1996718.22; 828060.57, 1996718.63; 828058.68, 1996719.17; 828056.83, 1996719.83; 828055.03, 1996720.61; 828054.09, 1996721.08; 827968.16, 1996765.39; 827967.35, 1996765.82; 827965.66, 1996766.83; 827964.05, 1996767.95; 827962.51, 1996769.17; 827961.05, 1996770.49; 827959.68, 1996771.90; 827958.41, 1996773.40; 827957.24, 1996774.98; 827956.17, 1996776.63; 827955.26, 1996778.28; 827922.76, 1996841.09; 827880.59, 1996878.48; 827879.64, 1996879.36; 827878.28, 1996880.77; 827877.37, 1996881.82; 827844.26, 1996921.88; 827747.85, 1996996.84; 827746.86, 1996997.64; 827745.40, 1996998.96; 827744.22, 1997000.18; 827664.66, 1997086.34; 827664.48, 1997086.53; 827663.21, 1997088.03; 827662.04, 1997089.61; 827660.97, 1997091.26; 827660.02, 1997092.98; 827659.74, 1997093.53; 827584.59, 1997247.43; 827584.03, 1997248.65; 827583.30, 1997250.48; 827582.70, 1997252.35; 827582.22, 1997254.26; 827581.99, 1997255.45; 827566.51, 1997344.29; 827566.39, 1997345.02; 827566.17, 1997346.98; 827566.07, 1997348.94.

(iii) Note: The map depicting Unit 8 is provided at paragraph (14)(iii) of this entry.

(14) Unit 9: Talante, Yabucoa-Maunabo, Puerto Rico.

(i) General Description: Unit 9 consists of approximately 23.5 ac (9.5 ha) east of Road PR-3, including the headwaters of the Talante Creek and five unnamed drainages. About 2.8 ac (1.1 ha) of Unit 9 are located within Calabazas Ward, Yabucoa, and the remaining 21.6 ac (8.7 ha) are located within Talante Ward, Maunabo.

(ii) Coordinates: From Yabucoa USGS 1:20,000 quadrangle map. Unit 9 bounded by the following UTM 19 NAD 83 coordinates (E, N):

827501.36, 1996260.52; 827501.40, 1996262.48; 827501.41, 1996262.67; 827503.20, 1996295.22; 827502.70, 1996331.19; 827502.73, 1996333.01; 827504.51, 1996371.21; 827504.52, 1996371.27; 827504.68, 1996373.23; 827504.96, 1996375.18; 827505.38, 1996377.10; 827505.92, 1996378.99; 827506.58, 1996380.84; 827506.64, 1996380.97; 827506.08, 1996421.48; 827506.11, 1996423.36; 827506.11, 1996423.48; 827507.89, 1996457.21; 827507.49, 1996486.28; 827507.52, 1996488.16; 827507.68, 1996490.12; 827507.97, 1996492.06; 827508.39, 1996493.99; 827508.93, 1996495.87; 827509.59, 1996497.73; 827510.37, 1996499.53; 827511.26, 1996501.28; 827512.08, 1996502.66; 827524.53, 1996522.50; 827524.72, 1996522.80; 827525.84, 1996524.42; 827527.06, 1996525.96; 827528.38, 1996527.41; 827529.79, 1996528.78; 827531.28, 1996530.04; 827548.77, 1996543.95; 827551.50, 1996556.77; 827550.16, 1996581.70; 827550.12, 1996582.81; 827550.15, 1996584.77; 827550.31, 1996586.73; 827550.60, 1996588.68; 827551.01, 1996590.60; 827551.01, 1996590.60; 827551.55, 1996592.49; 827552.11, 1996594.08; 827562.90, 1996622.18; 827570.11, 1996645.71; 827570.06, 1996646.71; 827570.05, 1996647.35; 827570.13, 1996664.90; 827554.06, 1996695.96; 827554.02, 1996696.03; 827553.61, 1996696.87; 827529.60, 1996747.39; 827529.18, 1996748.32; 827528.45, 1996750.15; 827527.85, 1996752.02; 827527.37, 1996753.93; 827527.02, 1996755.86; 827526.80, 1996757.81; 827526.70, 1996759.77; 827526.70, 1996761.01; 827528.06, 1996816.12; 827528.09, 1996816.85; 827528.25, 1996818.81; 827528.53, 1996820.75; 827528.95, 1996822.67; 827529.49, 1996824.56; 827529.57, 1996824.81; 827547.87, 1996880.16; 827548.45, 1996881.75; 827549.23, 1996883.56; 827550.13, 1996885.30; 827551.14, 1996886.99; 827552.25, 1996888.61; 827553.48, 1996890.15; 827554.80, 1996891.60; 827554.86, 1996891.66; 827590.37, 1996928.18; 827591.34, 1996929.13; 827639.45, 1996974.29; 827639.83, 1996974.64; 827641.33, 1996975.92; 827642.90, 1996977.09; 827644.56, 1996978.15; 827646.27, 1996979.11; 827648.05, 1996979.95; 827649.88, 1996980.67; 827651.75, 1996981.27; 827653.65, 1996981.75; 827655.58, 1996982.10; 827657.54, 1996982.33; 827659.50, 1996982.43; 827661.46, 1996982.39; 827663.42, 1996982.23; 827665.37, 1996981.95; 827667.29, 1996981.53; 827669.18, 1996980.99; 827671.03, 1996980.33; 827672.83, 1996979.55; 827674.58, 1996978.65; 827676.26, 1996977.65; 827677.88, 1996976.53; 827679.42, 1996975.31; 827680.88, 1996973.99; 827682.24, 1996972.58; 827683.52, 1996971.08; 827684.69, 1996969.50; 827685.75, 1996967.85; 827686.71, 1996966.13; 827687.55, 1996964.36; 827688.27, 1996962.53; 827688.87, 1996960.66; 827689.35, 1996958.75; 827689.70, 1996956.82; 827689.93, 1996954.87; 827690.03, 1996952.90; 827689.99, 1996950.94; 827689.83, 1996948.98; 827689.55, 1996947.04; 827689.13, 1996945.12; 827688.59, 1996943.23; 827687.93, 1996941.38; 827687.15, 1996939.57; 827686.25, 1996937.83; 827685.25, 1996936.14; 827684.13, 1996934.52; 827682.91, 1996932.98; 827681.59, 1996931.53; 827680.55, 1996930.51; 827632.94, 1996885.81; 827602.72, 1996854.74; 827587.99, 1996810.19; 827586.92, 1996766.70; 827607.63, 1996723.10; 827620.43, 1996698.38; 827621.14, 1996697.71; 827622.51, 1996696.30; 827623.78, 1996694.80; 827624.95, 1996693.22; 827626.01, 1996691.57; 827626.97, 1996689.86; 827627.81, 1996688.08; 827628.53, 1996686.25; 827629.14, 1996684.38; 827629.61, 1996682.48; 827629.97, 1996680.54; 827630.19, 1996678.59; 827630.29, 1996676.63; 827630.29, 1996676.01; 827684.67, 1996673.75; 827684.89, 1996673.74; 827686.84, 1996673.58; 827688.79, 1996673.29; 827690.71, 1996672.87; 827692.60, 1996672.34; 827694.45, 1996671.67; 827694.45, 1996671.67; 827696.25, 1996670.89; 827698.00, 1996670.00; 827698.00, 1996670.00; 827699.69, 1996668.99; 827701.30, 1996667.87; 827702.84, 1996666.65; 827704.30, 1996665.33; 827705.66, 1996663.92; 827706.94, 1996662.42; 827708.11, 1996660.84; 827709.17, 1996659.19; 827709.17, 1996659.19; 827710.13, 1996657.47; 827710.97, 1996655.70; 827710.97, 1996655.70; 827711.69, 1996653.87; 827712.29, 1996652.00; 827712.77, 1996650.09; 827713.12, 1996648.16; 827713.35, 1996646.21; 827713.45, 1996644.25; 827713.42, 1996642.28; 827713.26, 1996640.32; 827712.97, 1996638.38; 827712.55, 1996636.46; 827712.01, 1996634.57; 827711.35, 1996632.72; 827711.35, 1996632.72; 827710.57, 1996630.92; 827709.68, 1996629.17; 827709.68, 1996629.17; 827708.67, 1996627.48; 827707.55, 1996625.87; 827706.33, 1996624.33; 827705.01, 1996622.87; 827703.60, 1996621.50; 827702.10, 1996620.23; 827700.52, 1996619.06; 827698.87, 1996617.99; 827698.87, 1996617.99; 827697.15, 1996617.04; 827695.38, 1996616.20; 827695.38, 1996616.20; 827693.55, 1996615.47; 827691.68, 1996614.87; 827689.77, 1996614.39; 827687.84, 1996614.04; 827685.89, 1996613.82; 827683.93, 1996613.72; 827682.99, 1996613.72; 827623.38, 1996614.57; 827620.02, 1996603.60; 827619.90, 1996603.21; 827619.34, 1996601.62; 827610.47, 1996578.53; 827611.68, 1996556.03; 827611.72, 1996554.91; 827611.69, 1996552.95; 827611.53, 1996550.99; 827611.24, 1996549.05; 827611.07, 1996548.16; 827610.79, 1996546.87; 827675.26, 1996519.57; 827676.37, 1996519.07; 827678.12, 1996518.17; 827679.81, 1996517.16; 827681.42, 1996516.04; 827682.96, 1996514.82; 827684.42, 1996513.50; 827685.79, 1996512.09; 827687.06, 1996510.59; 827688.23, 1996509.01; 827689.30, 1996507.36; 827690.25, 1996505.65; 827691.09, 1996503.87; 827691.81, 1996502.04; 827692.42, 1996500.17; 827692.89, 1996498.27; 827693.25, 1996496.33; 827693.47, 1996494.38; 827693.57, 1996492.42; 827693.54, 1996490.45; 827693.38, 1996488.50; 827693.09, 1996486.55; 827692.68, 1996484.63; 827692.14, 1996482.74; 827691.48, 1996480.89; 827690.69, 1996479.09; 827689.80, 1996477.34; 827688.79, 1996475.65; 827687.67, 1996474.04; 827686.45, 1996472.50; 827685.13, 1996471.04; 827683.72, 1996469.67; 827682.22, 1996468.40; 827680.64, 1996467.23; 827678.99, 1996466.17; 827677.27, 1996465.21; 827675.50, 1996464.37; 827673.67, 1996463.65; 827671.80, 1996463.05; 827669.90, 1996462.57; 827667.96, 1996462.21; 827666.01, 1996461.99; 827664.05, 1996461.89; 827662.08, 1996461.92; 827660.12, 1996462.08; 827658.18, 1996462.37; 827656.26, 1996462.79; 827654.37, 1996463.32; 827652.59, 1996463.96; 827580.29, 1996492.29; 827572.67, 1996486.23; 827567.66, 1996478.25; 827567.96, 1996457.04; 827567.93, 1996455.16; 827567.92, 1996455.04; 827566.14, 1996421.31; 827566.34, 1996406.71; 827631.73, 1996413.78; 827632.50, 1996413.86; 827634.46, 1996413.95; 827636.42, 1996413.92; 827638.38, 1996413.76; 827640.33, 1996413.47; 827642.25, 1996413.06; 827644.14, 1996412.52; 827645.99, 1996411.86; 827645.99, 1996411.86; 827647.79, 1996411.08; 827649.54, 1996410.18; 827651.22, 1996409.17; 827652.84, 1996408.05; 827654.38, 1996406.83; 827655.84, 1996405.51; 827657.20, 1996404.10; 827658.48, 1996402.61; 827659.65, 1996401.03; 827660.71, 1996399.38; 827661.67, 1996397.66; 827662.51, 1996395.88; 827662.51, 1996395.88; 827663.23, 1996394.06; 827663.83, 1996392.19; 827664.31, 1996390.28; 827664.66, 1996388.35; 827664.89, 1996386.39; 827664.99, 1996384.43; 827664.95, 1996382.47; 827664.79, 1996380.51; 827664.51, 1996378.57; 827664.09, 1996376.64; 827663.55, 1996374.75; 827662.89, 1996372.90; 827662.89, 1996372.90; 827662.11, 1996371.10; 827661.21, 1996369.35; 827661.21, 1996369.35; 827660.20, 1996367.67; 827659.09, 1996366.05; 827657.87, 1996364.51; 827656.55, 1996363.05; 827655.14, 1996361.69; 827653.64, 1996360.42; 827652.06, 1996359.25; 827650.41, 1996358.18; 827648.69, 1996357.22; 827646.92, 1996356.38; 827646.92, 1996356.38; 827645.09, 1996355.66; 827643.22, 1996355.06; 827641.31, 1996354.58; 827639.38, 1996354.23; 827639.14, 1996354.19; 827563.34, 1996343.54; 827562.76, 1996331.12; 827563.26, 1996295.01; 827563.23, 1996293.13; 827563.22, 1996292.95; 827561.59, 1996263.45; 827570.34, 1996223.52; 827594.25, 1996193.51; 827594.27, 1996193.48; 827595.44, 1996191.90; 827596.51, 1996190.25; 827597.46, 1996188.53; 827598.30, 1996186.75; 827599.03, 1996184.93; 827599.63, 1996183.06; 827600.11, 1996181.15; 827600.46, 1996179.22; 827600.69, 1996177.27; 827600.78, 1996175.30; 827600.79, 1996174.55; 827600.57, 1996148.78; 827600.59, 1996148.79; 827607.79, 1996201.75; 827608.00, 1996203.07; 827608.41, 1996204.99; 827608.95, 1996206.88; 827609.61, 1996208.73; 827609.81, 1996209.22; 827634.31, 1996268.25; 827650.95, 1996310.98; 827651.00, 1996311.11; 827651.78, 1996312.91; 827652.68, 1996314.66; 827653.69, 1996316.35; 827654.80, 1996317.96; 827656.02, 1996319.50; 827657.34, 1996320.96; 827657.40, 1996321.02; 827719.64, 1996385.01; 827741.95, 1996410.24; 827742.86, 1996411.23; 827744.27, 1996412.59; 827745.77, 1996413.86; 827747.35, 1996415.04; 827749.00, 1996416.10; 827750.71, 1996417.06; 827752.49, 1996417.90; 827754.32, 1996418.62; 827756.19, 1996419.22; 827758.09, 1996419.70; 827760.03, 1996420.05; 827761.98, 1996420.28; 827763.94, 1996420.37; 827765.91, 1996420.34; 827767.87, 1996420.18; 827769.81, 1996419.90; 827771.73, 1996419.48; 827773.62, 1996418.94; 827775.47, 1996418.28; 827777.27, 1996417.50; 827779.02, 1996416.60; 827780.71, 1996415.59; 827782.32, 1996414.48; 827783.86, 1996413.25; 827785.32, 1996411.94; 827786.69, 1996410.52; 827787.96, 1996409.03; 827789.13, 1996407.45; 827790.19, 1996405.80; 827791.15, 1996404.08; 827791.99, 1996402.30; 827792.71, 1996400.48; 827793.31, 1996398.61; 827793.79, 1996396.70; 827794.15, 1996394.77; 827794.37, 1996392.82; 827794.47, 1996390.85; 827794.44, 1996388.89; 827794.28, 1996386.93; 827793.99, 1996384.99; 827793.58, 1996383.07; 827793.04, 1996381.18; 827792.37, 1996379.33; 827791.59, 1996377.52; 827790.70, 1996375.77; 827789.69, 1996374.09; 827788.57, 1996372.47; 827787.35, 1996370.93; 827786.94, 1996370.46; 827764.16, 1996344.69; 827763.25, 1996343.71; 827763.19, 1996343.65; 827704.70, 1996283.52; 827690.15, 1996246.15; 827690.10, 1996246.02; 827689.90, 1996245.54; 827666.77, 1996189.80; 827657.85, 1996124.12; 827657.64, 1996122.80; 827657.22, 1996120.88; 827656.68, 1996118.99; 827656.02, 1996117.14; 827655.24, 1996115.33; 827654.34, 1996113.59; 827653.34, 1996111.90; 827652.22, 1996110.28; 827651.00, 1996108.74; 827649.68, 1996107.29; 827648.27, 1996105.92; 827646.77, 1996104.65; 827645.19, 1996103.48; 827643.54, 1996102.41; 827641.82, 1996101.46; 827640.30, 1996100.73; 827608.11, 1996086.40; 827607.85, 1996086.29; 827607.85, 1996086.29; 827606.02, 1996085.57; 827604.15, 1996084.96; 827604.15, 1996084.96; 827602.25, 1996084.49; 827600.31, 1996084.13; 827598.36, 1996083.91; 827596.40, 1996083.81; 827594.44, 1996083.84; 827592.48, 1996084.00; 827590.53, 1996084.29; 827588.61, 1996084.70; 827588.61, 1996084.70; 827586.72, 1996085.24; 827586.03, 1996085.47; 827560.45, 1996094.38; 827559.30, 1996094.80; 827557.49, 1996095.59; 827555.75, 1996096.48; 827554.06, 1996097.49; 827552.44, 1996098.61; 827550.90, 1996099.83; 827549.45, 1996101.15; 827548.08, 1996102.56; 827546.81, 1996104.06; 827545.64, 1996105.64; 827544.57, 1996107.29; 827543.62, 1996109.01; 827542.78, 1996110.78; 827542.05, 1996112.61; 827541.45, 1996114.48; 827540.97, 1996116.38; 827540.62, 1996118.32; 827540.40, 1996120.27; 827540.30, 1996122.23; 827540.30, 1996122.99; 827540.64, 1996164.41; 827519.02, 1996191.56; 827518.99, 1996191.60; 827517.82, 1996193.18; 827516.75, 1996194.83; 827515.80, 1996196.54; 827514.96, 1996198.32; 827514.23, 1996200.15; 827513.63, 1996202.02; 827513.17, 1996203.85; 827502.06, 1996254.60; 827502.04, 1996254.67; 827501.69, 1996256.61; 827501.46, 1996258.56; 827501.36, 1996260.52.

(iii) Note: Map of Units 8 and 9 (Map 8) follows:

BILLING CODE 4310-55-P

BILLING CODE 4310-55-C

(15) Unit 10: Guayabota, Yabucoa, Puerto Rico.

(i) General Description: Unit 10 consists of approximately 13.1 ac (5.3 ha) to the northeast of intersection of roads PR-181 to the east, and PR-182 and Rio Guayanés to the south, and south of the municipal boundary with San Lorenzo, within Guayabota Ward, Yabucoa.

(ii) Coordinates: From Yabucoa and Patillas USGS 1:20,000 quadrangle maps. Unit 10 bounded by the following UTM 19 NAD 83 coordinates (E, N):

818663.90, 2001950.98; 818669.55, 2002001.91; 818692.20, 2002048.84; 818715.15, 2002074.58; 818757.13, 2002102.71; 818816.53, 2002097.18; 818863.37, 2002080.88; 818903.97, 2002056.02; 818923.80, 2002001.21; 818925.95, 2001999.12; 818936.95, 2001969.61; 818946.01, 2001927.36; 818917.06, 2001876.11; 818883.41, 2001858.69; 818834.74, 2001853.78; 818779.64, 2001855.13; 818739.10, 2001875.75; 818691.94, 2001915.35; 818689.82, 2001915.32; 818663.90, 2001950.98.

(iii) Note: Map of Unit 10 (Map 9) follows:

BILLING CODE 4310-55-C

(16) Unit 11: Guayabito, Yabucoa, Puerto Rico.

(i) General Description: Unit 11 consists of approximately 17.3 ac (7.0 ha) south of Road PR-900 and north of the Maunabo boundary, within Guayabota Ward, Yabucoa.

(ii) Coordinates: From Yabucoa USGS 1:20,000 quadrangle map. Unit 11 bounded by the following UTM 19 NAD 83 coordinates (E, N):

822520.09, 1998835.84; 822520.13, 1998837.81; 822520.29, 1998839.76; 822520.57, 1998841.71; 822520.99, 1998843.63; 822521.53, 1998845.52; 822522.19, 1998847.37; 822522.97, 1998849.17; 822523.87, 1998850.92; 822524.88, 1998852.61; 822526.00, 1998854.22; 822527.22, 1998855.76; 822528.54, 1998857.22; 822529.95, 1998858.58; 822531.45, 1998859.85; 822533.03, 1998861.02; 822534.68, 1998862.09; 822536.39, 1998863.04; 822538.17, 1998863.88; 822540.00, 1998864.61; 822541.87, 1998865.21; 822543.77, 1998865.69; 822545.32, 1998865.98; 822611.77, 1998876.73; 822655.55, 1998901.23; 822685.38, 1998957.12; 822733.68, 1999416.01; 822733.71, 1999416.30; 822734.00, 1999418.24; 822734.41, 1999420.16; 822734.95, 1999422.05; 822735.61, 1999423.90; 822736.39, 1999425.71; 822737.29, 1999427.45; 822738.30, 1999429.14; 822738.30, 1999429.14; 822739.42, 1999430.76; 822740.64, 1999432.30; 822741.96, 1999433.75; 822743.37, 1999435.12; 822744.87, 1999436.39; 822746.45, 1999437.56; 822746.45, 1999437.56; 822748.10, 1999438.62; 822749.81, 1999439.58; 822751.59, 1999440.42; 822753.42, 1999441.14; 822755.29, 1999441.74; 822757.19, 1999442.22; 822759.13, 1999442.57; 822761.08, 1999442.80; 822763.04, 1999442.89; 822765.01, 1999442.86; 822766.97, 1999442.70; 822768.91, 1999442.41; 822770.83, 1999442.00; 822772.72, 1999441.46; 822774.57, 1999440.80; 822776.37, 1999440.02; 822778.12, 1999439.12; 822779.81, 1999438.11; 822779.81, 1999438.11; 822781.42, 1999436.99; 822782.96, 1999435.77; 822783.85, 1999434.99; 822805.32, 1999415.26; 822805.89, 1999414.73; 822807.26, 1999413.32; 822808.53, 1999411.82; 822809.70, 1999410.24; 822810.76, 1999408.59; 822811.72, 1999406.87; 822812.56, 1999405.10; 822813.28, 1999403.27; 822813.88, 1999401.40; 822814.36, 1999399.49; 822814.71, 1999397.56; 822814.94, 1999395.61; 822815.03, 1999393.64; 822815.04, 1999393.56; 822815.59, 1999353.44; 822834.40, 1999326.93; 822859.47, 1999302.21; 822860.64, 1999300.99; 822861.91, 1999299.49; 822863.08, 1999297.91; 822864.14, 1999296.26; 822865.10, 1999294.55; 822865.94, 1999292.77; 822866.66, 1999290.94; 822867.26, 1999289.07; 822867.74, 1999287.17; 822868.09, 1999285.23; 822868.32, 1999283.28; 822868.41, 1999281.32; 822868.42, 1999280.68; 822868.13, 1999220.49; 822872.70, 1999182.15; 822872.81, 1999181.05; 822872.89, 1999179.72; 822875.48, 1999111.28; 822875.49, 1999110.64; 822875.46, 1999108.68; 822875.30, 1999106.72; 822875.01, 1999104.77; 822874.60, 1999102.85; 822874.06, 1999100.96; 822873.40, 1999099.11; 822873.18, 1999098.57; 822846.96, 1999035.79; 822846.40, 1999034.52; 822845.50, 1999032.78; 822844.49, 1999031.09; 822843.37, 1999029.48; 822842.15, 1999027.94; 822840.83, 1999026.48; 822840.54, 1999026.18; 822738.32, 1998923.47; 822737.20, 1998922.41; 822735.70, 1998921.14; 822734.13, 1998919.96; 822733.36, 1998919.47; 822704.39, 1998865.19; 822704.15, 1998864.75; 822703.14, 1998863.06; 822702.02, 1998861.45; 822700.80, 1998859.91; 822699.48, 1998858.45; 822698.06, 1998857.09; 822696.57, 1998855.82; 822694.99, 1998854.64; 822693.34, 1998853.58; 822692.56, 1998853.13; 822636.47, 1998821.73; 822635.52, 1998821.22; 822633.75, 1998820.38; 822631.92, 1998819.66; 822630.05, 1998819.06; 822628.14, 1998818.58; 822626.59, 1998818.29; 822554.91, 1998806.70; 822554.53, 1998806.64; 822552.57, 1998806.41; 822550.61, 1998806.31; 822548.65, 1998806.35; 822546.69, 1998806.51; 822544.75, 1998806.80; 822542.83, 1998807.21; 822540.94, 1998807.75; 822539.09, 1998808.41; 822537.28, 1998809.19; 822535.53, 1998810.09; 822533.85, 1998811.10; 822532.23, 1998812.22; 822530.69, 1998813.44; 822529.24, 1998814.76; 822527.87, 1998816.17; 822526.60, 1998817.67; 822525.43, 1998819.25; 822524.36, 1998820.90; 822523.41, 1998822.61; 822522.57, 1998824.39; 822521.85, 1998826.22; 822521.25, 1998828.09; 822520.77, 1998829.99; 822520.42, 1998831.93; 822520.19, 1998833.88; 822520.09, 1998835.84; 822752.71, 1999023.06; 822781.60, 1999297.57; 822786.94, 1999290.03; 822787.92, 1999288.73; 822789.19, 1999287.23; 822790.36, 1999286.02; 822808.30, 1999268.32; 822808.06, 1999218.93; 822808.07, 1999218.29; 822808.17, 1999216.32; 822808.28, 1999215.22; 822812.93, 1999176.24; 822815.22, 1999115.62; 822793.82, 1999064.36; 822752.71, 1999023.06.

(iii) Note: The map depicting Unit 11 is provided at paragraph (17)(iii) of this entry.

(17) Unit 12: Guayabo, Yabucoa, Puerto Rico.

(i) General Description: Unit 12 consists of approximately 9.8 ac (3.9 ha) within Guayabota Ward, Yabucoa, crossing Road PR-900, north of the Maunabo boundary, and about 3,025 ft (922 m) west of Unit 11.

(ii) Coordinates: From Yabucoa USGS 1:20,000 quadrangle map. Unit 12 is bounded by the following UTM 19 NAD 83 coordinates (E, N):

821249.15, 1999215.02; 821249.18, 1999216.98; 821249.34, 1999218.94; 821249.63, 1999220.88; 821250.04, 1999222.80; 821250.19, 1999223.36; 821255.15, 1999241.68; 821255.54, 1999243.01; 821256.21, 1999244.86; 821256.99, 1999246.67; 821257.88, 1999248.41; 821258.89, 1999250.10; 821260.01, 1999251.72; 821261.23, 1999253.25; 821262.55, 1999254.71; 821263.97, 1999256.08; 821265.46, 1999257.35; 821267.04, 1999258.52; 821268.69, 1999259.58; 821270.41, 1999260.54; 821272.19, 1999261.38; 821274.01, 1999262.10; 821275.88, 1999262.70; 821276.77, 1999262.94; 821304.05, 1999269.84; 821305.07, 1999270.08; 821307.00, 1999270.43; 821308.01, 1999270.56; 821349.11, 1999275.25; 821350.61, 1999289.71; 821339.99, 1999325.55; 821339.91, 1999325.83; 821339.43, 1999327.74; 821339.08, 1999329.67; 821338.85, 1999331.62; 821338.76, 1999333.59; 821338.79, 1999335.55; 821338.95, 1999337.51; 821338.97, 1999337.72; 821342.49, 1999366.45; 821342.75, 1999368.18; 821343.16, 1999370.10; 821343.70, 1999371.99; 821344.36, 1999373.84; 821345.15, 1999375.64; 821346.04, 1999377.39; 821347.05, 1999379.08; 821348.17, 1999380.69; 821349.39, 1999382.23; 821350.71, 1999383.69; 821352.12, 1999385.05; 821353.62, 1999386.32; 821355.20, 1999387.50; 821356.85, 1999388.56; 821358.57, 1999389.51; 821359.49, 1999389.97; 821386.84, 1999402.86; 821418.08, 1999420.93; 821419.39, 1999421.65; 821421.17, 1999422.49; 821423.00, 1999423.21; 821424.87, 1999423.81; 821426.77, 1999424.29; 821428.71, 1999424.64; 821430.66, 1999424.86; 821432.62, 1999424.96; 821434.58, 1999424.93; 821436.54, 1999424.77; 821437.64, 1999424.62; 821476.83, 1999418.65; 821477.68, 1999418.51; 821479.60, 1999418.09; 821481.49, 1999417.55; 821483.34, 1999416.89; 821485.14, 1999416.11; 821486.89, 1999415.21; 821488.57, 1999414.20; 821488.70, 1999414.12; 821525.83, 1999389.92; 821527.32, 1999388.88; 821528.86, 1999387.66; 821530.31, 1999386.34; 821531.68, 1999384.93; 821532.95, 1999383.43; 821534.12, 1999381.85; 821535.19, 1999380.20; 821536.14, 1999378.48; 821536.98, 1999376.71; 821537.70, 1999374.88; 821538.30, 1999373.01; 821538.78, 1999371.10; 821539.13, 1999369.17; 821539.36, 1999367.22; 821539.45, 1999365.26; 821539.42, 1999363.29; 821539.26, 1999361.33; 821538.97, 1999359.39; 821538.56, 1999357.47; 821538.02, 1999355.58; 821537.36, 1999353.73; 821536.58, 1999351.93; 821535.68, 1999350.18; 821534.67, 1999348.49; 821533.55, 1999346.88; 821532.33, 1999345.34; 821531.01, 1999343.88; 821529.60, 1999342.52; 821528.10, 1999341.24; 821526.52, 1999340.07; 821524.87, 1999339.01; 821523.15, 1999338.05; 821521.38, 1999337.21; 821519.55, 1999336.49; 821517.68, 1999335.89; 821515.77, 1999335.41; 821513.84, 1999335.06; 821511.89, 1999334.84; 821509.93, 1999334.74; 821507.96, 1999334.77; 821506.00, 1999334.93; 821504.06, 1999335.22; 821502.14, 1999335.64; 821500.25, 1999336.17; 821498.40, 1999336.84; 821496.60, 1999337.62; 821494.85, 1999338.52; 821493.16, 1999339.53; 821493.04, 1999339.61; 821461.35, 1999360.26; 821439.02, 1999363.66; 821415.82, 1999350.25; 821414.50, 1999349.53; 821413.59, 1999349.08; 821400.08, 1999342.71; 821399.34, 1999336.63; 821409.88, 1999301.06; 821409.96, 1999300.78; 821410.44, 1999298.88; 821410.79, 1999296.94; 821411.01, 1999294.99; 821411.11, 1999293.03; 821411.08, 1999291.06; 821410.95, 1999289.44; 821406.35, 1999245.05; 821406.32, 1999244.72; 821406.03, 1999242.78; 821405.62, 1999240.85; 821405.08, 1999238.97; 821404.41, 1999237.12; 821403.63, 1999235.31; 821402.74, 1999233.56; 821401.73, 1999231.88; 821400.61, 1999230.26; 821399.39, 1999228.72; 821398.07, 1999227.27; 821396.65, 1999225.90; 821395.16, 1999224.63; 821393.58, 1999223.46; 821391.93, 1999222.39; 821390.21, 1999221.44; 821388.43, 1999220.60; 821386.61, 1999219.88; 821384.74, 1999219.28; 821382.83, 1999218.80; 821380.90, 1999218.45; 821379.89, 1999218.32; 821331.62, 1999212.81; 821331.68, 1999212.76; 821333.04, 1999211.35; 821334.31, 1999209.85; 821335.48, 1999208.27; 821336.55, 1999206.62; 821337.50, 1999204.90; 821338.34, 1999203.13; 821338.95, 1999201.61; 821353.85, 1999161.41; 821353.96, 1999161.09; 821354.56, 1999159.22; 821355.04, 1999157.32; 821355.39, 1999155.41; 821362.58, 1999107.28; 821362.58, 1999107.25; 821362.80, 1999105.30; 821362.90, 1999103.34; 821362.87, 1999101.37; 821362.71, 1999099.41; 821362.42, 1999097.47; 821362.01, 1999095.55; 821361.72, 1999094.50; 821339.65, 1999018.19; 821340.99, 1999002.89; 821341.00, 1999002.72; 821341.10, 1999000.76; 821341.07, 1998998.79; 821340.91, 1998996.83; 821340.62, 1998994.89; 821340.20, 1998992.97; 821339.66, 1998991.08; 821339.00, 1998989.23; 821338.22, 1998987.43; 821337.32, 1998985.68; 821336.31, 1998983.99; 821335.20, 1998982.38; 821333.97, 1998980.84; 821332.66, 1998979.38; 821331.24, 1998978.02; 821329.75, 1998976.75; 821328.17, 1998975.58; 821326.52, 1998974.51; 821324.80, 1998973.56; 821323.02, 1998972.72; 821321.19, 1998971.99; 821319.32, 1998971.39; 821317.42, 1998970.91; 821315.49, 1998970.56; 821313.53, 1998970.34; 821311.57, 1998970.24; 821309.61, 1998970.27; 821307.65, 1998970.43; 821305.70, 1998970.72; 821303.78, 1998971.14; 821301.89, 1998971.68; 821300.04, 1998972.34; 821298.24, 1998973.12; 821296.49, 1998974.02; 821294.81, 1998975.03; 821293.19, 1998976.15; 821291.65, 1998977.37; 821290.20, 1998978.69; 821288.83, 1998980.10; 821287.56, 1998981.60; 821286.39, 1998983.17; 821285.32, 1998984.83; 821284.37, 1998986.54; 821283.53, 1998988.32; 821282.81, 1998990.15; 821282.21, 1998992.02; 821281.73, 1998993.92; 821281.38, 1998995.86; 821281.17, 1998997.64; 821279.33, 1999018.53; 821279.32, 1999018.70; 821279.22, 1999020.66; 821279.26, 1999022.62; 821279.42, 1999024.58; 821279.70, 1999026.53; 821280.12, 1999028.45; 821280.40, 1999029.50; 821302.21, 1999104.89; 821296.46, 1999143.46; 821285.64, 1999172.65; 821260.86, 1999191.71; 821259.75, 1999192.61; 821258.29, 1999193.93; 821256.92, 1999195.35; 821255.65, 1999196.84; 821254.48, 1999198.42; 821253.42, 1999200.07; 821252.46, 1999201.79; 821251.62, 1999203.57; 821250.90, 1999205.39; 821250.30, 1999207.26; 821249.82, 1999209.17; 821249.47, 1999211.10; 821249.25, 1999213.06; 821249.15, 1999215.02.

(iii) Note: Map of Units 11 and 12 (Map 10) follows:

BILLING CODE 4310-55-P

BILLING CODE 4310-55-C

(18) Unit 13: El Cielito, Maunabo, Puerto Rico.

(i) General Description: Unit 13 consists of approximately 7.84 ac (3.17 ha), between the municipal boundary of Yabucoa to the north, PR-759 to the south and west, and PR-3 to the east, within Talante Ward, Maunabo.

(ii) Coordinates: From Yabucoa USGS 1:20,000 quadrangle map. Unit 13 bounded by the following UTM 19 NAD 83 coordinates (E, N):

825982.02, 1996690.65; 825982.05, 1996692.62; 825982.22, 1996694.58; 825982.51, 1996696.52; 825982.93, 1996698.44; 825983.48, 1996700.33; 825984.14, 1996702.18; 825984.93, 1996703.98; 825985.83, 1996705.72; 825986.85, 1996707.40; 825987.97, 1996709.02; 825989.19, 1996710.55; 825990.52, 1996712.01; 825991.93, 1996713.37; 825993.43, 1996714.64; 825995.01, 1996715.80; 825996.67, 1996716.86; 825998.39, 1996717.81; 826000.17, 1996718.65; 826002.00, 1996719.37; 826003.87, 1996719.96; 826005.78, 1996720.44; 826007.71, 1996720.78; 826009.66, 1996721.00; 826011.63, 1996721.09; 826013.59, 1996721.06; 826015.55, 1996720.89; 826017.49, 1996720.60; 826019.41, 1996720.18; 826021.30, 1996719.63; 826023.15, 1996718.97; 826024.95, 1996718.18; 826026.69, 1996717.28; 826028.38, 1996716.27; 826029.99, 1996715.14; 826031.53, 1996713.92; 826032.98, 1996712.59; 826034.34, 1996711.18; 826035.61, 1996709.68; 826036.77, 1996708.10; 826037.84, 1996706.44; 826038.79, 1996704.72; 826039.62, 1996702.94; 826040.34, 1996701.11; 826040.80, 1996699.72; 826058.80, 1996639.86; 826064.87, 1996626.21; 826065.02, 1996625.87; 826065.62, 1996624.39; 826077.68, 1996591.67; 826117.27, 1996543.05; 826117.56, 1996542.70; 826118.72, 1996541.12; 826119.34, 1996540.18; 826137.43, 1996511.67; 826137.87, 1996510.96; 826138.82, 1996509.24; 826139.63, 1996507.52; 826162.49, 1996454.74; 826162.51, 1996454.69; 826163.23, 1996452.86; 826163.82, 1996450.98; 826164.30, 1996449.08; 826164.64, 1996447.14; 826164.86, 1996445.19; 826164.96, 1996443.23; 826165.66, 1996392.36; 826165.62, 1996390.40; 826165.46, 1996388.44; 826165.16, 1996386.49; 826164.74, 1996384.58; 826164.20, 1996382.69; 826163.81, 1996381.55; 826132.56, 1996296.82; 826120.53, 1996241.20; 826120.29, 1996240.18; 826119.75, 1996238.29; 826119.08, 1996236.44; 826118.30, 1996234.64; 826117.39, 1996232.89; 826116.38, 1996231.21; 826115.26, 1996229.60; 826114.03, 1996228.06; 826112.71, 1996226.61; 826111.29, 1996225.25; 826109.79, 1996223.98; 826108.21, 1996222.81; 826106.56, 1996221.75; 826104.84, 1996220.80; 826103.06, 1996219.97; 826101.23, 1996219.25; 826099.36, 1996218.65; 826097.45, 1996218.18; 826095.51, 1996217.83; 826093.56, 1996217.61; 826091.60, 1996217.52; 826089.63, 1996217.56; 826087.68, 1996217.72; 826085.73, 1996218.02; 826083.81, 1996218.44; 826081.93, 1996218.98; 826080.08, 1996219.65; 826078.28, 1996220.43; 826076.53, 1996221.34; 826074.85, 1996222.35; 826073.24, 1996223.47; 826071.70, 1996224.70; 826070.25, 1996226.02; 826068.88, 1996227.44; 826067.62, 1996228.94; 826066.45, 1996230.52; 826065.39, 1996232.17; 826064.44, 1996233.89; 826063.60, 1996235.67; 826062.89, 1996237.50; 826062.29, 1996239.37; 826061.82, 1996241.28; 826061.47, 1996243.21; 826061.25, 1996245.17; 826061.16, 1996247.13; 826061.20, 1996249.09; 826061.36, 1996251.05; 826061.65, 1996253.00; 826061.83, 1996253.89; 826074.31, 1996311.58; 826074.55, 1996312.60; 826075.09, 1996314.49; 826075.48, 1996315.62; 826105.53, 1996397.10; 826104.99, 1996436.39; 826085.46, 1996481.49; 826069.59, 1996506.50; 826027.95, 1996557.62; 826027.67, 1996557.98; 826026.50, 1996559.56; 826025.44, 1996561.21; 826024.49, 1996562.93; 826023.65, 1996564.71; 826023.06, 1996566.20; 826009.61, 1996602.69; 826003.16, 1996617.18; 826003.01, 1996617.52; 826002.29, 1996619.34; 826001.84, 1996620.74; 825983.29, 1996682.42; 825983.15, 1996682.90; 825982.68, 1996684.80; 825982.33, 1996686.74; 825982.11, 1996688.69; 825982.02, 1996690.65.

(iii) Note: Map of Unit 13 (Map 11) follows:

BILLING CODE 4310-55-P

BILLING CODE 4310-55-C

(19) Unit 14: Verraco, San Lorenzo, Puerto Rico.

(i) General Description: Unit 14 consists of approximately 8.9 ac (3.6 ha), between PR-181 to the north and west, Río Grande de Loíza to the east and south, and the municipal boundary of Yabucoa to the south, within Espino Ward, San Lorenzo.

(ii) Coordinates: From Yabucoa and Patillas USGS 1:20,000 quadrangle maps. Unit 14 bounded by the following UTM 19 NAD 83 coordinates (E, N):

818021.78, 2003743.38; 818021.82, 2003745.35; 818021.98, 2003747.31; 818022.27, 2003749.25; 818022.69, 2003751.17; 818023.24, 2003753.06; 818023.90, 2003754.90; 818024.69, 2003756.71; 818025.59, 2003758.45; 818026.61, 2003760.13; 818027.41, 2003761.31; 818041.40, 2003780.81; 818041.72, 2003781.25; 818042.95, 2003782.78; 818044.27, 2003784.24; 818045.68, 2003785.60; 818047.19, 2003786.87; 818048.77, 2003788.03; 818050.42, 2003789.09; 818051.64, 2003789.78; 818072.66, 2003801.02; 818073.16, 2003801.29; 818074.94, 2003802.12; 818076.77, 2003802.84; 818078.64, 2003803.44; 818080.55, 2003803.91; 818082.48, 2003804.26; 818084.44, 2003804.48; 818086.40, 2003804.57; 818088.36, 2003804.53; 818089.35, 2003804.46; 818118.63, 2003801.99; 818119.61, 2003801.89; 818121.55, 2003801.60; 818123.47, 2003801.18; 818125.20, 2003800.69; 818179.90, 2003783.29; 818180.06, 2003783.24; 818181.91, 2003782.58; 818183.71, 2003781.79; 818183.86, 2003781.72; 818240.72, 2003754.27; 818242.32, 2003753.44; 818244.00, 2003752.42; 818245.61, 2003751.30; 818247.15, 2003750.08; 818248.60, 2003748.75; 818249.96, 2003747.34; 818251.23, 2003745.84; 818252.40, 2003744.26; 818253.46, 2003742.60; 818254.41, 2003740.88; 818255.24, 2003739.10; 818255.96, 2003737.28; 818256.56, 2003735.40; 818257.03, 2003733.50; 818257.38, 2003731.56; 818257.60, 2003729.61; 818257.69, 2003727.65; 818257.65, 2003725.68; 818257.49, 2003723.73; 818257.19, 2003721.78; 818256.77, 2003719.86; 818256.23, 2003717.97; 818255.56, 2003716.13; 818254.78, 2003714.33; 818253.88, 2003712.58; 818252.86, 2003710.90; 818251.74, 2003709.28; 818250.51, 2003707.75; 818249.19, 2003706.30; 818247.78, 2003704.93; 818246.27, 2003703.67; 818244.69, 2003702.50; 818243.04, 2003701.44; 818241.32, 2003700.49; 818239.54, 2003699.65; 818237.71, 2003698.93; 818235.84, 2003698.34; 818233.93, 2003697.87; 818232.00, 2003697.52; 818230.05, 2003697.30; 818228.08, 2003697.21; 818226.12, 2003697.24; 818224.16, 2003697.41; 818222.22, 2003697.70; 818220.30, 2003698.12; 818218.41, 2003698.67; 818216.56, 2003699.33; 818214.76, 2003700.12; 818214.61, 2003700.19; 818187.94, 2003713.06; 818216.83, 2003685.69; 818233.41, 2003672.94; 818247.97, 2003666.94; 818249.43, 2003666.29; 818251.18, 2003665.38; 818252.86, 2003664.37; 818254.47, 2003663.25; 818256.01, 2003662.02; 818257.46, 2003660.70; 818258.83, 2003659.29; 818260.09, 2003657.78; 818261.26, 2003656.20; 818262.32, 2003654.55; 818263.27, 2003652.83; 818264.11, 2003651.05; 818264.82, 2003649.22; 818265.42, 2003647.35; 818265.89, 2003645.44; 818266.24, 2003643.51; 818266.46, 2003641.56; 818266.55, 2003639.59; 818266.51, 2003637.63; 818266.35, 2003635.67; 818266.06, 2003633.73; 818265.64, 2003631.81; 818265.09, 2003629.92; 818264.43, 2003628.07; 818263.64, 2003626.27; 818262.74, 2003624.53; 818261.72, 2003622.84; 818260.60, 2003621.23; 818259.38, 2003619.69; 818258.05, 2003618.24; 818256.64, 2003616.88; 818255.14, 2003615.61; 818253.56, 2003614.44; 818251.90, 2003613.38; 818250.18, 2003612.43; 818248.40, 2003611.60; 818246.57, 2003610.88; 818244.70, 2003610.28; 818242.80, 2003609.81; 818240.86, 2003609.46; 818238.91, 2003609.24; 818236.95, 2003609.15; 818236.49, 2003609.16; 818236.87, 2003608.20; 818237.46, 2003606.33; 818237.94, 2003604.42; 818238.28, 2003602.49; 818238.50, 2003600.54; 818238.59, 2003598.57; 818238.56, 2003596.61; 818238.39, 2003594.65; 818238.10, 2003592.71; 818237.68, 2003590.79; 818237.13, 2003588.90; 818236.47, 2003587.05; 818235.68, 2003585.25; 818234.78, 2003583.51; 818233.77, 2003581.82; 818232.64, 2003580.21; 818231.42, 2003578.67; 818230.10, 2003577.22; 818229.24, 2003576.35; 818227.83, 2003574.98; 818226.33, 2003573.72; 818224.75, 2003572.55; 818223.09, 2003571.49; 818221.37, 2003570.54; 818219.59, 2003569.70; 818217.76, 2003568.98; 818215.89, 2003568.39; 818213.99, 2003567.92; 818212.05, 2003567.57; 818210.10, 2003567.35; 818208.14, 2003567.26; 818206.17, 2003567.29; 818204.21, 2003567.46; 818202.27, 2003567.75; 818200.35, 2003568.17; 818198.46, 2003568.72; 818196.62, 2003569.38; 818194.81, 2003570.17; 818193.07, 2003571.07; 818191.39, 2003572.08; 818189.77, 2003573.21; 818188.24, 2003574.43; 818186.87, 2003575.67; 818119.61, 2003627.58; 818118.47, 2003628.50; 818117.02, 2003629.82; 818116.33, 2003630.51; 818088.04, 2003659.86; 818054.31, 2003681.68; 818054.28, 2003681.70; 818052.67, 2003682.82; 818051.13, 2003684.04; 818049.68, 2003685.37; 818048.32, 2003686.78; 818047.05, 2003688.28; 818046.58, 2003688.89; 818030.14, 2003710.85; 818029.44, 2003711.82; 818028.38, 2003713.48; 818027.43, 2003715.20; 818026.59, 2003716.97; 818025.88, 2003718.80; 818025.28, 2003720.68; 818024.81, 2003722.58; 818024.52, 2003724.15; 818022.15, 2003739.10; 818022.09, 2003739.47; 818021.87, 2003741.42; 818021.78, 2003743.38;

(iii) Note: The map depicting Unit 14 is provided at paragraph (20)(iii) of this entry.

(20) Unit 15: Cueva Marcela Unit, San Lorenzo, Puerto Rico.

(i) General Description: Unit 15 consists of approximately 7.47 ac (3.02 ha), between PR-181 and Quebrada Verraco to the north, PR-181 to the west, and Río Grande de Loíza and the municipal boundary of Yabucoa to the south, within Espino Ward, San Lorenzo.

(ii) Coordinates: From Yabucoa and Patillas USGS 1:20,000 quadrangle maps. Unit 15 bounded by the following UTM 19 NAD 83 coordinates (E, N):

818171.51, 2003361.29; 818171.55, 2003363.25; 818171.72, 2003365.21; 818172.01, 2003367.15; 818172.43, 2003369.07; 818172.97, 2003370.96; 818173.64, 2003372.81; 818174.42, 2003374.61; 818175.33, 2003376.36; 818176.34, 2003378.04; 818177.46, 2003379.65; 818178.69, 2003381.19; 818180.01, 2003382.64; 818181.43, 2003384.00; 818182.93, 2003385.27; 818184.51, 2003386.44; 818186.16, 2003387.50; 818187.88, 2003388.45; 818189.66, 2003389.28; 818191.49, 2003390.00; 818193.36, 2003390.60; 818195.27, 2003391.07; 818197.20, 2003391.42; 818199.16, 2003391.64; 818201.12, 2003391.73; 818203.08, 2003391.69; 818205.04, 2003391.53; 818206.98, 2003391.23; 818208.90, 2003390.81; 818210.79, 2003390.27; 818212.64, 2003389.60; 818214.44, 2003388.82; 818216.19, 2003387.92; 818217.87, 2003386.90; 818219.48, 2003385.78; 818219.89, 2003385.47; 818287.51, 2003333.26; 818288.65, 2003332.34; 818290.10, 2003331.02; 818291.46, 2003329.60; 818292.73, 2003328.10; 818293.05, 2003327.68; 818343.46, 2003261.48; 818344.31, 2003260.32; 818345.37, 2003258.66; 818346.32, 2003256.94; 818347.15, 2003255.17; 818347.87, 2003253.34; 818348.47, 2003251.46; 818348.94, 2003249.56; 818349.29, 2003247.62; 818349.51, 2003245.67; 818349.60, 2003243.71; 818349.56, 2003241.74; 818349.40, 2003239.79; 818349.10, 2003237.84; 818348.68, 2003235.92; 818348.14, 2003234.03; 818347.47, 2003232.19; 818346.69, 2003230.39; 818345.79, 2003228.64; 818344.77, 2003226.96; 818343.65, 2003225.34; 818342.42, 2003223.81; 818341.10, 2003222.36; 818339.69, 2003220.99; 818338.18, 2003219.73; 818336.60, 2003218.56; 818334.95, 2003217.50; 818333.23, 2003216.55; 818331.45, 2003215.71; 818329.62, 2003214.99; 818327.75, 2003214.40; 818325.84, 2003213.93; 818323.91, 2003213.58; 818321.96, 2003213.36; 818319.99, 2003213.27; 818318.03, 2003213.30; 818316.07, 2003213.47; 818314.13, 2003213.76; 818312.21, 2003214.18; 818310.32, 2003214.73; 818308.47, 2003215.39; 818306.67, 2003216.18; 818304.93, 2003217.08; 818303.24, 2003218.09; 818301.63, 2003219.22; 818300.09, 2003220.44; 818298.64, 2003221.77; 818297.28, 2003223.18; 818296.01, 2003224.68; 818295.69, 2003225.10; 818247.68, 2003288.15; 818183.19, 2003337.94; 818182.05, 2003338.86; 818180.60, 2003340.18; 818179.24, 2003341.60; 818177.97, 2003343.10; 818176.81, 2003344.68; 818175.74, 2003346.33; 818174.79, 2003348.05; 818173.96, 2003349.83; 818173.24, 2003351.66; 818172.64, 2003353.53; 818172.17, 2003355.44; 818171.82, 2003357.37; 818171.60, 2003359.33; 818171.51, 2003361.29; 818164.80, 2003448.26; 818164.84, 2003450.23; 818165.01, 2003452.18; 818165.30, 2003454.13; 818165.72, 2003456.05; 818166.26, 2003457.93; 818166.93, 2003459.78; 818167.72, 2003461.58; 818168.62, 2003463.33; 818169.63, 2003465.01; 818170.75, 2003466.62; 818171.98, 2003468.16; 818173.30, 2003469.61; 818174.72, 2003470.98; 818176.22, 2003472.24; 818177.80, 2003473.41; 818179.45, 2003474.47; 818181.17, 2003475.42; 818182.95, 2003476.26; 818184.78, 2003476.97; 818186.65, 2003477.57; 818188.15, 2003477.95; 818251.08, 2003492.29; 818296.61, 2003523.57; 818376.74, 2003594.09; 818377.97, 2003595.11; 818379.55, 2003596.27; 818381.20, 2003597.34; 818382.92, 2003598.29; 818384.70, 2003599.12; 818386.53, 2003599.84; 818388.40, 2003600.44; 818390.31, 2003600.91; 818392.24, 2003601.26; 818394.20, 2003601.48; 818396.16, 2003601.57; 818398.12, 2003601.53; 818400.08, 2003601.36; 818402.02, 2003601.07; 818403.94, 2003600.65; 818405.83, 2003600.11; 818407.68, 2003599.44; 818409.48, 2003598.66; 818411.23, 2003597.75; 818412.91, 2003596.74; 818414.52, 2003595.62; 818416.06, 2003594.39; 818417.51, 2003593.07; 818418.87, 2003591.65; 818420.14, 2003590.15; 818421.31, 2003588.57; 818422.37, 2003586.92; 818423.32, 2003585.20; 818424.15, 2003583.42; 818424.87, 2003581.59; 818425.47, 2003579.72; 818425.94, 2003577.81; 818426.29, 2003575.88; 818426.51, 2003573.92; 818426.60, 2003571.96; 818426.56, 2003570.00; 818426.40, 2003568.04; 818426.10, 2003566.10; 818425.68, 2003564.18; 818425.14, 2003562.29; 818424.47, 2003560.44; 818423.69, 2003558.64; 818422.79, 2003556.89; 818421.77, 2003555.21; 818420.65, 2003553.60; 818419.42, 2003552.06; 818418.10, 2003550.61; 818416.69, 2003549.25; 818416.41, 2003549.00; 818334.93, 2003477.30; 818333.70, 2003476.28; 818332.12, 2003475.11; 818332.09, 2003475.09; 818280.35, 2003439.55; 818278.72, 2003438.50; 818277.00, 2003437.55; 818275.22, 2003436.72; 818273.39, 2003436.00; 818271.52, 2003435.40; 818270.02, 2003435.02; 818201.50, 2003419.40; 818201.09, 2003419.31; 818199.16, 2003418.97; 818197.21, 2003418.75; 818195.25, 2003418.66; 818193.28, 2003418.69; 818191.32, 2003418.86; 818189.38, 2003419.15; 818187.46, 2003419.57; 818185.57, 2003420.11; 818183.72, 2003420.78; 818181.92, 2003421.57; 818180.18, 2003422.47; 818178.49, 2003423.48; 818176.88, 2003424.61; 818175.35, 2003425.83; 818173.89, 2003427.15; 818172.53, 2003428.57; 818171.26, 2003430.07; 818170.10, 2003431.65; 818169.04, 2003433.31; 818168.09, 2003435.03; 818167.25, 2003436.80; 818166.53, 2003438.63; 818165.94, 2003440.50; 818165.46, 2003442.41; 818165.12, 2003444.35; 818164.90, 2003446.30; 818164.80, 2003448.26;

(iii) Note: Map of Units 14 and 15 (Map 12) follows:

BILLING CODE 4310-55-P

BILLING CODE 4310-55-C

(21) Unit 16: Ceiba Sur Unit, Juncos, Puerto Rico.

(i) General Description: Unit 16 consists of approximately 13.92 ac (5.63 ha) between Road PR-9934 to the east, and Road PR-919 to the west within Ceiba Sur Ward, Juncos.

(ii) Coordinates: From Juncos USGS 1:20,000 quadrangle map. Unit 16 bounded by the following UTM 19 NAD 83 coordinates (E, N):

825495.74, 2015729.02; 825495.78, 2015730.98; 825495.94, 2015732.94; 825496.23, 2015734.88; 825496.65, 2015736.80; 825497.20, 2015738.69; 825497.86, 2015740.54; 825498.65, 2015742.34; 825499.55, 2015744.08; 825500.57, 2015745.77; 825501.69, 2015747.38; 825502.91, 2015748.92; 825504.24, 2015750.37; 825505.65, 2015751.73; 825507.15, 2015753.00; 825508.73, 2015754.17; 825510.39, 2015755.23; 825512.11, 2015756.18; 825513.89, 2015757.01; 825515.50, 2015757.66; 825623.97, 2015797.10; 825686.46, 2015843.70; 825729.39, 2015913.29; 825728.50, 2015977.04; 825714.36, 2016115.79; 825714.30, 2016116.45; 825714.21, 2016118.41; 825714.25, 2016120.38; 825714.32, 2016121.45; 825728.89, 2016288.33; 825712.58, 2016422.79; 825712.46, 2016424.02; 825712.36, 2016425.98; 825712.40, 2016427.95; 825712.57, 2016429.90; 825712.65, 2016430.55; 825721.59, 2016494.66; 825721.80, 2016495.95; 825722.22, 2016497.87; 825722.77, 2016499.76; 825723.43, 2016501.61; 825724.22, 2016503.41; 825725.12, 2016505.16; 825726.13, 2016506.84; 825727.26, 2016508.45; 825728.48, 2016509.99; 825729.80, 2016511.44; 825731.22, 2016512.80; 825732.72, 2016514.07; 825734.30, 2016515.24; 825735.96, 2016516.30; 825737.68, 2016517.25; 825739.45, 2016518.09; 825741.28, 2016518.80; 825743.16, 2016519.40; 825745.06, 2016519.87; 825747.00, 2016520.22; 825748.95, 2016520.44; 825750.91, 2016520.53; 825752.88, 2016520.50; 825754.83, 2016520.33; 825756.78, 2016520.04; 825758.70, 2016519.62; 825760.59, 2016519.07; 825762.43, 2016518.41; 825764.24, 2016517.62; 825765.98, 2016516.72; 825767.66, 2016515.71; 825769.28, 2016514.58; 825770.81, 2016513.36; 825772.27, 2016512.04; 825773.63, 2016510.62; 825774.90, 2016509.12; 825776.06, 2016507.54; 825777.12, 2016505.88; 825778.08, 2016504.16; 825778.91, 2016502.39; 825779.63, 2016500.56; 825780.23, 2016498.69; 825780.70, 2016496.78; 825781.05, 2016494.84; 825781.27, 2016492.89; 825781.36, 2016490.93; 825781.32, 2016488.96; 825781.16, 2016487.01; 825781.07, 2016486.36; 825772.67, 2016426.13; 825788.89, 2016292.45; 825789.01, 2016291.22; 825789.11, 2016289.26; 825789.07, 2016287.29; 825788.99, 2016286.22; 825774.40, 2016119.05; 825788.38, 2015981.81; 825788.44, 2015981.16; 825788.53, 2015979.19; 825789.56, 2015905.38; 825789.53, 2015903.42; 825789.36, 2015901.46; 825789.07, 2015899.52; 825788.65, 2015897.60; 825788.10, 2015895.71; 825787.44, 2015893.86; 825786.65, 2015892.06; 825785.75, 2015890.32; 825785.09, 2015889.20; 825734.57, 2015807.29; 825734.21, 2015806.72; 825733.09, 2015805.11; 825731.86, 2015803.57; 825730.54, 2015802.12; 825729.12, 2015800.76; 825727.62, 2015799.49; 825726.96, 2015798.98; 825656.34, 2015746.31; 825655.42, 2015745.66; 825653.76, 2015744.59; 825652.04, 2015743.64; 825650.26, 2015742.81; 825648.65, 2015742.17; 825536.03, 2015701.22; 825535.81, 2015701.14; 825533.94, 2015700.54; 825532.03, 2015700.07; 825530.10, 2015699.72; 825528.15, 2015699.50; 825526.19, 2015699.41; 825524.22, 2015699.45; 825522.26, 2015699.61; 825520.32, 2015699.91; 825518.40, 2015700.33; 825516.51, 2015700.87; 825514.66, 2015701.54; 825512.86, 2015702.32; 825511.12, 2015703.22; 825509.43, 2015704.24; 825507.82, 2015705.36; 825506.28, 2015706.59; 825504.83, 2015707.91; 825503.47, 2015709.32; 825502.20, 2015710.83; 825501.03, 2015712.41; 825499.97, 2015714.06; 825499.02, 2015715.78; 825498.19, 2015717.56; 825497.47, 2015719.39; 825496.87, 2015721.26; 825496.40, 2015723.17; 825496.05, 2015725.10; 825495.83, 2015727.05; 825495.74, 2015729.02

(iii) Note: Map of Unit 16 (Map 13) follows:

BILLING CODE 4310-55-P

BILLING CODE 4310-55-C

(22) Unit 17: Playita Unit, Yabucoa, Puerto Rico.

(i) General Description: Unit 17 consists of approximately 5.27 ac (2.13 ha), between PR-900 to the north and east and the municipal boundary of Maunabo to the south, within Calabazas Ward, Yabucoa.

(ii) Coordinates: From Yabucoa USGS 1:20,000 quadrangle map. Unit 17 bounded by the following UTM 19 NAD 83 coordinates (E, N):

825120.79, 1998673.78; 825120.83, 1998675.74; 825121.00, 1998677.70; 825121.29, 1998679.64; 825121.71, 1998681.56; 825122.25, 1998683.45; 825122.92, 1998685.30; 825123.71, 1998687.10; 825124.61, 1998688.85; 825125.62, 1998690.53; 825126.74, 1998692.14; 825127.97, 1998693.68; 825129.29, 1998695.13; 825130.71, 1998696.49; 825132.21, 1998697.76; 825133.79, 1998698.93; 825135.44, 1998699.99; 825137.16, 1998700.94; 825138.94, 1998701.77; 825140.77, 1998702.49; 825142.64, 1998703.09; 825144.55, 1998703.56; 825146.49, 1998703.91; 825148.44, 1998704.13; 825150.40, 1998704.22; 825152.37, 1998704.18; 825154.32, 1998704.02; 825156.27, 1998703.72; 825158.19, 1998703.30; 825160.07, 1998702.76; 825161.92, 1998702.09; 825163.72, 1998701.31; 825165.47, 1998700.40; 825167.15, 1998699.39; 825168.76, 1998698.27; 825170.30, 1998697.04; 825171.75, 1998695.72; 825172.48, 1998694.98; 825196.33, 1998670.14; 825233.38, 1998640.82; 825234.24, 1998640.12; 825235.69, 1998638.80; 825237.05, 1998637.38; 825238.32, 1998635.88; 825239.49, 1998634.30; 825240.24, 1998633.15; 825266.62, 1998590.83; 825266.93, 1998590.32; 825267.88, 1998588.60; 825268.71, 1998586.82; 825269.43, 1998584.99; 825270.03, 1998583.12; 825270.50, 1998581.21; 825270.83, 1998579.42; 825279.64, 1998520.84; 825279.66, 1998520.70; 825279.88, 1998518.75; 825279.96, 1998517.25; 825283.32, 1998403.46; 825283.33, 1998402.99; 825283.29, 1998401.03; 825283.13, 1998399.07; 825282.84, 1998397.12; 825282.42, 1998395.21; 825281.87, 1998393.32; 825281.20, 1998391.47; 825280.42, 1998389.67; 825279.52, 1998387.92; 825278.50, 1998386.24; 825277.38, 1998384.63; 825276.15, 1998383.09; 825274.83, 1998381.64; 825273.42, 1998380.27; 825271.91, 1998379.01; 825270.33, 1998377.84; 825268.68, 1998376.78; 825266.96, 1998375.83; 825265.18, 1998374.99; 825263.35, 1998374.28; 825261.48, 1998373.68; 825259.57, 1998373.21; 825257.64, 1998372.86; 825255.69, 1998372.64; 825253.72, 1998372.55; 825251.76, 1998372.59; 825249.80, 1998372.75; 825247.86, 1998373.05; 825245.94, 1998373.46; 825244.05, 1998374.01; 825242.20, 1998374.68; 825240.40, 1998375.46; 825238.65, 1998376.36; 825236.97, 1998377.38; 825235.36, 1998378.50; 825233.82, 1998379.73; 825232.37, 1998381.05; 825231.01, 1998382.46; 825229.74, 1998383.97; 825228.57, 1998385.55; 825227.51, 1998387.20; 825226.56, 1998388.92; 825225.73, 1998390.70; 825225.01, 1998392.53; 825224.41, 1998394.40; 825223.94, 1998396.31; 825223.59, 1998398.24; 825223.37, 1998400.19; 825223.29, 1998401.69; 825219.99, 1998513.68; 825212.36, 1998564.33; 825192.03, 1998596.96; 825157.45, 1998624.31; 825156.60, 1998625.01; 825155.15, 1998626.34; 825154.42, 1998627.07; 825129.15, 1998653.40; 825128.52, 1998654.08; 825127.25, 1998655.59; 825126.08, 1998657.17; 825125.02, 1998658.82; 825124.07, 1998660.54; 825123.24, 1998662.32; 825122.52, 1998664.15; 825121.92, 1998666.02; 825121.45, 1998667.93; 825121.10, 1998669.86; 825120.88, 1998671.81; 825120.79, 1998673.78;

(iii) Note: Map of Unit 17 (Map 14) follows:

BILLING CODE 4310-55-P

* * * * *

Dated: September 24, 2007.
David M. Verhey,
Acting Assistant Secretary for Fish and Wildlife and Parks.

[FR Doc. 07-5056 Filed 10-22-07; 8:45 am]

BILLING CODE 4310-55-C